DEPARTMENT OF HOUSING AND URBAN DEVELOPMENT

[Docket No. FR-5667-N-01]

Supportive Housing for the Elderly; Advance Notice of Senior Preservation Rental Assistance Contracts Award Process

AGENCY: Office of the Assistant Secretary for Housing—Federal Housing Commissioner, (HUD).

ACTION: Notice.

SUMMARY: The Section 202 Supportive Housing for the Elderly Act of 2010, signed into law in January 2011, authorizes HUD to provide Senior Preservation Rental Assistance Contracts (SPRACs) with 20-year terms to prevent displacement of elderly residents of certain projects assisted under HUD's Section 202 Supportive Housing for the Elderly program in the case of refinancing or recapitalization and to further preserve and maintain affordability of Section 202 Direct Loan projects. In Fiscal Year (FY) 2012, $16 million was made available for SPRAC funding. This notice advises of HUD's intent to award SPRACs through the proposed application process described in this notice. HUD is soliciting comments on the proposed process for awarding SPRACs and the associated criteria for establishing eligibility to apply for a SPRAC.

DATES: Comment Due Date: March 11, 2013.

ADDRESSES: Interested persons are invited to submit comments regarding this notice to the Regulations Division, Office of General Counsel, Department of Housing and Urban Development, 451 7th Street SW., Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the notice.

No Facsimile Comments. Facsimile (FAX) comments are not acceptable.

Public Inspection of Public Comments. All properly submitted comments and communications submitted to HUD will be available for public inspection and copying between 8 a.m. and 5 p.m. weekdays at the above address. Due to security measures at the HUD Headquarters building, an appointment to review the public comments must be scheduled in advance by calling the Regulations Division at 202-708-3055 (this is not a toll-free number). Individuals with speech or hearing impairments may access this number via TTY by calling the Federal Relay Service at 800-877-8339. Copies of all comments submitted are available for inspection and downloading at www.regulations.gov.

FOR FURTHER INFORMATION CONTACT: Margaret Salazar, Deputy Director of the Office of Affordable Housing Development, Office of Multifamily Housing Programs, Office of Housing, Department of Housing and Urban Development, 451 7th Street SW., Room 6112, Washington, DC 20410; telephone number 202-708-2495 (this is not a toll-free number). Persons with hearing or speech impairments may access this number through TTY by calling the toll-free Federal Relay Service at 800-877-8339.

SUPPLEMENTARY INFORMATION:

I. Background

The Section 202 Supportive Housing for the Elderly Act of 2010 (Pub. L. 111-372, approved January 4, 2011) (Section 202 of 2010 Act) authorizes HUD to provide SPRACs with 20-year terms to prevent displacement of elderly residents of certain projects assisted under HUD's Section 202 Supportive Housing for the Elderly program (Section 202 program) in the case of refinancing or recapitalization and to further preserve and maintain affordability of Section 202 Direct Loan projects. General authority for a Section 202 Direct Loan is provided by Section 811 of the American Homeownership and Economic Opportunity (AHEO) Act of 2000, as amended by the Section 202 of 2010 Act (12 U.S.C. 1701q note). Pursuant to this authority, SPRAC assistance may be provided to Section 202 properties with original interest rates of 6 percent or less (financed prior to 1974), when the property is refinanced to make capital repairs and the owner does not anticipate debt service savings from the refinance. In FY 2012, $16 million was made available for SPRAC funding.

II. This Notice—Solicitation of Comment

This notice advises of HUD's intent to award SPRACs through the proposed application process described in this notice. HUD is soliciting comments on the proposed process for awarding SPRACs and the associated criteria for establishing eligibility to apply for a SPRAC. Specifically, HUD requests comment on the following sections of this notice:

Eligibility Criteria

1. Are any additional eligibility criteria necessary to ensure those elderly residents most at risk of displacement receive SPRAC assistance?

2. Should any of the eligibility criteria be removed or modified?

3. Is eligibility criterion six—a seven percent or below vacancy rate—realistic for Section 202 properties with interest rates of 6 percent or less financed prior to 1974? If not, why not (please provide any data you have supporting your comments)?

Award Process

1. Is the SPRAC award process an effective and efficient means of providing rental assistance to elderly residents at risk of displacement? Should HUD modify the award process? If so, how?

2. Is separating qualified Owner-applicants into two pools based on willingness to target very low income elderly tenants an effective means of serving the population most in need? If so, how? If not, why (please provide any data or information you have supporting your comments)?

HUD will take all comments into consideration and issue a final notice that will provide threshold criteria for Owner-applicant eligibility and final details of the FY 2012 SPRAC award process.

III. Proposed SPRAC Application and Award Process

Purpose of the Program

The Section 202 Supportive Housing for the Elderly Act of 2010 (Pub. L. 111-372, approved January 4, 2011) (Section 202 of 2010 Act) authorizes HUD to provide SPRACs to unassisted Section 202 units. The SPRAC contracts will have 20-year terms, with funding subject to annual appropriations. The purpose of SPRACs is to prevent displacement of income-eligible elderly residents of Section 202 Direct Loan properties with original interest rates of 6 percent or less, when the property is refinanced and the Owner does not anticipate debt service savings from the refinance. General authority for a Section 202 Direct Loan is provided by Section 811 of the American Homeownership and Economic Opportunity (AHEO) Act of 2000, as amended by the Section 202 of 2010 Act (12 U.S.C. 1701q note). In order to be income-eligible to receive SPRAC assistance, household income must be 80 percent or below area median income (AMI).

In addition to protecting elderly residents from displacement, SPRAC assistance is also intended to further preservation and affordability of these pre-1974 Section 202 Direct Loan projects. The mortgages on these properties, originally for 40 or 50-year terms, are reaching their maturity dates. When mortgages mature, the use and affordability restrictions of these properties expire, putting the long term affordability of this senior housing at risk. Very low-income elderly tenants of maturing mortgage properties are at the most immediate risk of displacement. The award process described in this notice will target these maturing mortgage properties by ranking qualified applications received by mortgage maturity date. Properties with mortgage maturity dates that predate the SPRAC application deadline, and properties with maturity dates sooner than 60 days following the SPRAC application deadline will not be eligible for SPRAC awards.

HUD oversees a portfolio of 209 Section 202 properties with original interest rates of six percent or less. All were financed prior to 1974. Many pre-1974 Section 202 Direct Loan properties have never completed a rehabilitation effort and are in need of significant capital repairs. Owners may wish to prepay the existing Section 202 Direct Loan in order to obtain new financing to address the physical needs of the project. Even in a time of historically low interest rates, however, it is unlikely that the refinancing of an eligible Section 202 Direct Loan would result in a reduction in debt service.

The anticipated increase in debt service from the Section 202 refinance places unassisted elderly residents in danger of displacement. Tenants may be at risk as Owners seek additional income to pay the increased debt service. The majority of pre-1974 Direct Loan projects are “partially assisted,” meaning that some, but not all units receive Section 8 Project Based Rental assistance. Under AHEO, as amended, the Owner may qualify to receive a Section 8 rent adjustment on the Section 8 units, which could bring additional income to cover the increased debt service requirement. However, it is unlikely that this income will be sufficient to pay the increased debt service. The Owner may look to the unassisted households of the project to pay a rent increase to cover the costs of the new loan. The imposition of a rent increase places unassisted elderly residents at risk of possible displacement. SPRAC assistance will provide rental assistance on previously unassisted units. In addition, this assistance may provide revenue that could offset the cost of a service coordinator or other operating costs. This assistance eliminates the need for Owners to impose rent increases on these vulnerable households.

The provision of SPRACs is contingent on HUD approval of the Section 202 Direct Loan prepayment. As a matter of policy, HUD has determined that the amount of proposed repairs must rise to the level of substantial rehabilitation as defined in the HUD Multifamily Accelerated Processing (MAP) Guide, 4430-G, Rev-1. Otherwise, the transaction could have the effect of merely trading low interest debt for higher interest debt.¹ The substantial rehabilitation must be in compliance with the Section 504 accessibility requirements described in 24 CFR part 8. HUD applies the Uniform Federal Accessibility Standards (UFAS) through its regulations under part 8. The prepayment, in conjunction with the substantial rehabilitation of the project and the provision of SPRAC, will facilitate the improvement of the project and the long-term preservation of the project as housing affordable to current and future elderly households.

¹ The MAP Guide may be accessed at http://portal.hud.gov/hudportal/HUD?src=/program_offices/administration/hudclips/guidebooks/hsg-GB4430.

The HUD Section 202 Direct Loan portfolio includes 18,600 unassisted units. To receive SPRAC assistance for these unassisted units, the project Owner must meet all SPRAC Notice requirements, and all prepayment requirements of AHEO. Over the next decade, an average of 2,000 unassisted units per year risk losing affordability due to maturing Section 202 loans.

The Consolidated and Further Continuing Appropriations Act, 2012 (Public Law 112-55, approved November 18, 2011) makes funds available to fund the first year of assistance for 20-year project-based rental assistance contracts for unassisted units in qualifying Section 202 projects. The precise number of units/households to receive assistance will be determined based on the availability of funds.

SPRACs are not Section 8 project based rental assistance Housing Assistance Payment (HAP) contracts. However, pursuant to the Section 202 of 2010 Act, HUD will administer SPRACs under the same requirements governing project-based rental assistance made available under section 8 of the United States Housing Act of 1937 (42 U.S.C. 1473f), and implemented through the regulations at 24 CFR part 883. To be eligible for SPRAC assistance, residents must be income-eligible (at-or-below 80 percent of AMI). SPRAC assistance will only be provided to units occupied by income-eligible households at the time the SPRAC is executed. Initial SPRAC rents will be established based on market comparables. Over the 20-year term of the SPRAC, contracts will be administered using the processes described in the HUD Section 8 Renewal Policy Guidebook, under Option 1: Mark up to Market. Rents will be adjusted annually using the Operating Cost Adjustment Factor (OCAF) described in the Section 8 Renewal Policy Guidebook. An updated Rent Comparability Study (RCS) will be required every five (5) years. At the end of the 20-year term, subject to the availability of appropriations, HUD may renew the SPRAC for an additional 20-year term. Please note that though SPRACs will be administered under Section 8 guidance, this does not mean that SPRACs are a form of Section 8 rental assistance. SPRACs will be administered in accordance with the current Section 8 regulations until HUD publishes regulations to govern SPRACs in the near future.

I. Available Funds

HUD is making $16 million in FY 2012 funds available to fund the initial year of SPRAC units for selected properties. HUD anticipates this could fund up to 2,000 unassisted units. Funding for future contract years are subject to appropriations. HUD may make new SPRAC contract awards in future funding rounds if and when appropriations are available for this purpose.

Award Process

The proposal is to award SPRAC requests through an application process, open to those projects electing to prepay and refinance the Section 202 Direct Loan under the terms of AHEO and HUD guidance provided in Housing Notice 12-08 for Section 202 Direct Loan prepayment requirements.²

² See http://portal.hud.gov/hudportal/HUD?src=/program_offices/administration/hudclips/notices/hsg.

Section 202 projects that apply and meet eligibility criteria will be separated into two pools:

(1) Pool One—those Owner-applicants that commit to use SPRAC assistance for existing low income and very low income tenants residing at the property at the time of the 202 Direct Loan prepayment, and for new very low income tenants (50 percent of AMI) upon unit turnover; and

(2) Pool Two—those Owner-applicants that do not commit to use SPRAC assistance exclusively for low income and very low income tenants residing at the property at the time of the 202 Direct Loan prepayment, and for new very low income tenants (50 percent of AMI) upon unit turnover, but rather for tenants at or below 80 percent of AMI.

All qualified Owner-applicants and the respective properties in both Pool One and Pool Two will be ranked by mortgage maturity date. Beginning with those in Pool One, SPRAC awards will be made based on the mortgage maturity date of each property. HUD will select the property with the earliest chronological maturity date first, the property with the second earliest maturity date second, and so forth, until funding is exhausted. If there are not enough qualified Owner-applicants in Pool One to exhaust available SPRAC funding, those qualified Owner-applicants in Pool Two will become eligible for SPRAC awards. The process for award will be identical to that for Pool Two and will be based on mortgage maturity date. Properties with mortgage maturity dates that predate the SPRAC application deadline will not be eligible for SPRAC awards.³ There is no maximum award ceiling per project.

³ Pursuant to AHEO, SPRAC awards must be linked to a qualifying mortgage prepayment, not a mortgage maturity. Therefore a property will not receive SPRAC if the mortgage matures before the Direct Loan prepayment is completed.

HUD will not make partial awards. HUD will only select projects that can be fully funded with available SPRAC funds. For example, if the next eligible project on the list (ranked by mortgage maturity date) includes 100 unassisted income-eligible units, HUD will only select this project for funding if there are sufficient SPRAC resources to fund all 100 income-eligible units. If resources are not sufficient, HUD will select the next eligible project that can be fully funded or will close the award process until further notice. (Following public comment on this notice and incorporation of these comments, a SPRAC Housing Notice will establish minimum basic eligibility criteria for Owner-applicants to apply by a certain deadline, which will be provided in the final notice that follows and takes into consideration public comment on this notice.)

Eligibility Criteria

Eligible Owner-applicants will own properties that meet the following criteria:

1. Their property must be a Section 202 property with an original interest rate of six percent or less (funded prior to 1974) and with unassisted units.

2. Their most recent Real Estate Assessment Center (REAC) score at the property must be 60 or above, and the property must have no open Exigent Health and Safety findings.

3. Their most recent Management and Occupancy Review score at the property must be satisfactory or higher.

4. Their property must have no open referrals to the Departmental Enforcement Center.

5. The Owner-applicant must intend to refinance under the terms and conditions of AHEO, as amended, with no anticipated debt service savings from the refinance. A purchase/acquisition transaction is also eligible if the project will not experience debt service savings as a result of the transaction. (In the case of an acquisition, the current Owner must submit the SPRAC request but may provide evidence in the form of a purchase/sale agreement that the prepayment will include an acquisition.) The Owner-applicant must demonstrate that without SPRAC the rents for unassisted elderly tenants will be raised to compensate for the increased debt service costs resulting from prepayment at a higher interest rate. Rent increases will place unassisted elderly tenants at high risk of displacement.

6. Their property vacancy rate must be seven percent or lower for the 24 month period prior to application or the Owner-applicant must intend to convert efficiency units to one-bedroom units in accordance with Housing Notice 2011-03.⁴ In order to convert efficiency units to one-bedroom units, the Owner-applicant must demonstrate an average vacancy rate in the efficiency units of at least 25 percent for at least 24 months or documentation must be shown that supports that the proposed conversion units are functionally obsolete.

⁴ See http://portal.hud.gov/hudportal/documents/huddoc?id=11-03hsgn.pdf.

7. Their property is proximate to the amenities and services needed by elderly residents.

8. The Owner-applicant is not eligible to request assistance if such owner:

i. Has been charged with a systemic violation of the Fair Housing Act or received a cause determination from a substantially equivalent state or local fair housing agency concerning a systemic violation of a substantially equivalent state or local fair housing law proscribing discrimination because of race, color, religion, sex, national origin, disability or familial status;

ii. Is a defendant in a Fair Housing Act lawsuit filed by the Department of Justice alleging a pattern or practice of discrimination or denial of rights to a group of persons raising an issue of general public interest pursuant to 42 U.S.C. 3614(a);

iii. Has received a letter of findings identifying systemic noncompliance under Title VI of the Civil Rights Act of 1964, Section 504 of the Rehabilitation Act of 1973, or Section 109 of the Housing and Community Development Act of 1974;

iv. Has received a cause determination from a substantially equivalent state or local fair housing agency concerning a systemic violation of provisions of a state or local law proscribing discrimination in housing based on sexual orientation or gender identity; or

v. Has received a cause determination from a substantially equivalent state or local fair housing agency concerning a systemic violation of a state or local law proscribing discrimination in housing based on lawful source of income; and

vi. If applicable, has not resolved to HUD's satisfaction, the charge, lawsuit, letter of findings or cause determination referenced in subparagraphs (i), (ii), (iii), (iv) or (v) and/or is not in current compliance with any agreement or consent order resolving the matter.

Award Process

Funding for SPRAC awards is extremely limited and a significant number of equally worthy projects are expected to compete for SPRAC funding. To allocate these scarce resources effectively, HUD proposes to make SPRAC awards using an application process where applications are separated into two pools:

(1) Pool One—those Owner-applicants that commit to use SPRAC assistance for existing low income and very low income tenants residing at the property at the time of the 202 Direct Loan prepayment, and for new very low income tenants (50 percent of Area Media Income) upon unit turnover; and

(2) Pool Two—those Owner-applicants that do not commit to use SPRAC assistance exclusively for low income and very low income tenants residing at the property at the time of the 202 Direct Loan prepayment, and for new very low income tenants (50 percent of AMI) upon unit turnover, but rather for tenants at or below 80 percent of AMI.

Both Pools will be ranked by mortgage maturity date, and beginning with Pool One, projects will be awarded SPRAC in chronological order until funding is exhausted. If funding is not exhausted from Pool One, awards will be made in chronological order of mortgage maturity date for Pool Two. HUD believes all pre-1974 Section 202 properties that meet the eligibility requirements are in need of preservation, and all unassisted residents of these properties are potentially vulnerable to rent increases or displacement. Elderly tenants of properties with imminent mortgage maturity dates are at greatest risk of displacement because those properties are closer to terminating their relationship with HUD. As the mortgage matures, the property is no longer obligated to operate as housing affordable to very low, low, and/or moderate-income elderly households.

HUD's top priority is protecting very low income unassisted elderly tenants from displacement and providing assistance to this population in the future. Therefore, HUD will give priority to those qualified Owner-applicants that commit to target 100 percent of SPRAC assistance to very low-income and low income elderly residents residing in the project at the time of the Direct Loan prepayment, and exclusively to very low income tenants at unit turnover. These projects will go into Pool One for SPRAC awards. Households that currently reside in unassisted units at the Section 202 Direct Loan project, and that meet the low income eligibility criteria (at or below 80 percent of AMI) will be eligible to receive SPRAC assistance. However, upon unit turnover, the Owner-applicants will commit to make the vacant units available exclusively to very low income households.

To determine very low income thresholds, the Owner-applicant should determine annual income by following the income verification process described in HUD Handbook 4350.3, Occupancy Requirements of Subsidized Multifamily Housing Programs.⁵ The Owner-applicant must compare the household's annual income with HUD's current FY low income limits. For this comparison, Owner-applicants must know the size of the household (e.g., 1 person household). Owner-applicants may find HUD's low income limits by visiting http://www.huduser.org/portal/datasets/il/il12/index_il2012.html. At this site, Owner-applicants click “Click Here for FY 2012 IL Documentation.” The Owner-applicant then selects the state and county in which the property is located, and clicks “Next Screen.” The relevant information is located in the row labeled “Very Low (50%) Income Limits.” If the household's annual income is greater than the very low-income limit found in this row, the household does not qualify as a very low income household for the purposes of SPRAC eligibility.

⁵ See http://portal.hud.gov/hudportal/HUD?src=/program_offices/administration/hudclips/handbooks/hsgh/4350.3.

Qualified Owner-applicants in Pool One will be ranked by project mortgage maturity date, and those projects will be funded based on chronological maturity date, with the earliest maturity date selected first, until all SPRAC funds are exhausted. Properties with mortgage maturity dates that predate the SPRAC application deadline will not be eligible for SPRAC awards. This approach allows HUD to target those properties with imminent maturing mortgages to meet the statutory intent to protect unassisted elderly residents from displacement.

If two properties have the same mortgage maturity date, projects in low-vacancy areas ⁶ will be given priority, because residents in these areas would have the most difficulty securing affordable housing if they did not have access to rental assistance. To determine if a project is in a low-vacancy area, please see Attachment 1. If none of the projects with the same mortgage maturity date are in a low-vacancy area, the project with the greatest number of unassisted units will be funded within the limitation of available funds, in order to reach the greatest number of impacted elderly residents.

⁶ “Low-vacancy area” was defined for the purposes of this assistance as a county that currently and historically demonstrates a moderate to tight rental housing market for low-income renters. HUD determined this definition with two thresholds. First, the county must be below the national vacancy rate for units affordable to low-income household in 2000, which is 7.3 percent. Second, the county must be below the 80th percentile vacancy rate for low-income renters as estimated by the 2005-2009 American Community Survey 5 year estimates, which is 8.7 percent. A list of low-vacancy areas is included in Attachment 1.

If there are not enough qualified Owner-applicants in Pool One to utilize all available SPRAC funding, qualified Owner-applicants that meet the threshold criteria but do not commit to use SPRAC assistance for existing low income and very low income tenants residing at the property at the time of the 202 Direct Loan prepayment, and for new very low income tenants (50 percent of AMI) upon unit turnover, but rather tenants at or below 80 percent of AMI (Pool Two) will become eligible. The award process for Pool Two Owner-applicants will be identical to that for Pool One.

Properties selected via the outlined application process will receive a preliminary notification of SPRAC award. Final SPRAC awards will be contingent on the property successfully receiving HUD approval to prepay the Section 202 Direct Loan under the requirements of AHEO and any standing or subsequent HUD guidance related to Section 202 Direct Loan prepayments.

HUD is proposing a six-stage process for the award of SPRACs:

(1) Submission by the Owner-applicant of an Expression of Interest Letter (an Expression of Interest is not being solicited at this time);

(2) Separation of qualified Owner-Applicants into Pool One and Pool Two based on Owner-applicant commitment to target very low income elderly residents;

(3) Ranking of Applications by Mortgage Maturity Date;

(4) Notification to Proceed;

(5) Completion of Prepayment Request and Approval; and

(6) Fund Reservation and Obligation.

Stage 1: Owner Submits an Expression of Interest Letter

An Owner-applicant must first determine that the 202 Direct Loan property meets the above basic eligibility criteria for SPRAC award. An interested and eligible Owner-applicant will then submit an Expression of Interest Letter for SPRAC award to HUD. HUD proposes the following information should be included in or with the Expression of Interest Letter:

1. Project name and FHA number.

2. Statement that the Owner-applicant plans to refinance and does not anticipate debt service savings from the refinance, and must plan repairs that rise to the level of substantial rehabilitation.

3. Statement that the Owner-applicant will commit to target SPRAC assistance exclusively for existing low income and very low income tenants residing at the property at the time of the 202 Direct Loan prepayment, and for new very low income tenants (50 percent of Area Media Income) upon unit turnover (if applicable).

4. Rent rolls from the 3 months preceding the Letter of Intent, verifying that the property has a vacancy rate of seven percent or lower.

or

The Owner-applicant must include a statement of intent to convert efficiency units to one-bedroom units in accordance with Housing Notice 2011-03. In order to convert efficiency units to one-bedroom units, the property rent roll must demonstrate that average vacancy rate in the efficiency units is at least 25 percent for at least 24 months or the Owner-applicant must provide a letter from a licensed appraiser or a licensed architect indicating that the efficiency units proposed for conversion are functionally obsolete.

5. Rent Comparability Study (RCS), commissioned by the Owner, to estimate the approximate amount of SPRAC funding needed to provide assistance at market rent levels for the unassisted units. The RCS must be completed in accordance with Chapter 9 of the Section 8 Renewal Policy Guidebook (http://portal.hud.gov/hudportal/documents/huddoc?id=DOC_14528.pdf). If the property has a Section 8 HAP contract and the Owner has commissioned an RCS within the last five years, the RCS may be used per the guidelines of Chapter 9 of the Section 8 Renewal Policy Guidebook. HUD will use the RCS to approximate the SPRAC contract rents based on comparable market rents.⁷

⁷ At this stage, HUD will use the RCS to forecast the potential SPRAC rent levels and cost of providing assistance to the unassisted units at the property. The RCS will not be interpreted as the final rent or assistance level, which will be determined at a later stage of the process. The Owner is not required to provide an assessment or calculation of assistance at this stage.

6. The Owner-Applicant must submit one of the following to demonstrate the property is proximate to amenities and services needed by the elderly residents:

A. Submit a letter, signed by the Housing, Planning, or Community Development office of the local municipality verifying that:

(i) This Section 202 property is proximate to social, recreational, educational, commercial, and health facilities and services, and other municipal facilities and services; or

(ii) If the Section 202 property is not currently proximate to social, recreational, educational, commercial, and health facilities or services, the preservation of this Section 202 property is an integral part of a concerted community revitalization plan.

or

B. Provide a certification from the Designated Point of Contact for the designated Preferred Sustainability Status Community where the property is located, using form HUD2995. A list of Preferred Sustainability Status Communities and the corresponding points of contact can be found here: http://portal.hud.gov/hudportal/HUD?src=/program_offices/administration/grants/nofa11/psscontacts. The form will certify the nexus between the proposed preservation of the Section 202 property by the owner applicant and the Livability Principles as they are being advanced in the Preferred Sustainability Status Community. This certification must be signed and dated anytime from the date of the publication of the SPRAC Final Notice to the deadline date of the SPRAC funding opportunity. Any certifications signed before or after those dates will not be acceptable.

8. Statement certifying that the Owner-applicant is in compliance with the civil rights threshold requirements set forth under “Eligibility Criteria” in this Notice.

Note: HUD will remove the application from the pool and notify those Owner-applicants who do not meet the qualifications for a SPRAC award.

Stage 2: Separation of Applications by Very low Income Targeting into Pool One and Pool Two

Those qualified Owner-Applicants that include a statement of commitment to use SPRAC assistance for existing low income and very low income tenants residing at the property at the time of the 202 Direct Loan prepayment, and for new very low income tenants (50 percent of AMI) upon unit turnover will be placed in Pool One and those qualified Owner-applicants that do not include a statement of commitment will be placed in Pool Two. Once all qualified Owner-applicants in Pool One have received SPRAC assistance, awards will begin for Pool Two.

Stage 3: Ranking of Applications by Mortgage Maturity Date

Upon the submission deadline for the Expression of Interest Letter and the separation of qualified Owner-applicants into Pool One and Pool Two, HUD will rank the qualified Owner-applicants and corresponding projects by mortgage maturity date. If two or more qualified applicants have the same mortgage maturity date, the project(s) in low-vacancy areas listed in the appendix to this Notice will be given priority. If none of the projects with the same mortgage maturity date are in low-vacancy areas, the project with the most unassisted units will be selected within limitations of funding.

Beginning with Pool One, HUD will allocate SPRAC funding in chronological order of mortgage maturity date, using the RCS, the number of unassisted units, and contract cost information in comparable properties to estimate needed funding, until all SPRAC funds are exhausted. HUD will not make partial awards. HUD will only select projects that can be fully funded with available SPRAC funds. For example, if the next project on the list includes 100 unassisted units HUD will only select this project for funding if there are sufficient SPRAC resources to fund all 100 units under the contract. If resources are not sufficient, HUD will select the next eligible project that can be fully funded or will close the award process until further notice.

Once all qualified Owner-applicants in Pool One have been funded, HUD will award SPRAC to those qualified Owner-applicants in Pool Two chronologically by mortgage maturity date. Awards made to Pool Two Owner-applicants will follow the same procedures outlined above for Pool One.

Stage 4: Notification to Proceed

Upon selection, the Owner-applicant will receive a Notification to Proceed letter confirming the project was selected to receive a SPRAC award. This Notification will specify that SPRAC assistance will only be provided for unassisted units occupied by income-eligible residents (at or below 80 percent of AMI) at the time of execution of the SPRAC. The Notification to Proceed letter will not guarantee funding, as the Owner-applicant will need to meet all criteria and complete the Section 202 prepayment process successfully before receiving funds. The Notification to Proceed letter will include an estimated dollar amount for potential SPRAC assistance, determined by the required RCS submitted by the Owner-applicant. This amount is subject to change based on the determination of the number of income-eligible unassisted units at the property and market comparable rents using the RCS. The Owner-applicant will be required to verify tenant incomes to determine the number of income-eligible households (at 80 percent AMI or below) residing in unassisted units at the time the SPRAC is executed.

The Notification to Proceed letter will be conditioned on HUD approval of a prepayment request and the closing of the proposed refinance. The Owner-applicant must submit a complete prepayment request to the Multifamily Hub/PC office within 60 days of the date of receipt of the Notification to Proceed letter. The prepayment request must include all information required by Housing Notice 12-08. Failure to submit the prepayment request within 60 days of the date of receipt of the Notification to Proceed letter will nullify the Notification to Proceed and the Owner-applicant's eligibility for SPRAC for this round of funding. The Notification to Proceed letter will be valid for no more than 180 days (six months). During this 180 day period, the Owner-applicant will finalize and submit the prepayment request and secure the refinance loan. If the prepayment approval is not granted in that time, and/or if the Owner-applicant does not close the refinancing in this time period, the project's selection in the lottery will be cancelled and the corresponding funds released.

If the Owner-applicant is planning to use FHA financing, HUD will extend the Notification to Proceed to accommodate the timeline for FHA application reviews, provided that the Owner-applicant submits evidence of submission of an FHA insured loan application. HUD may also consider extending the Notification to Proceed if the Owner-applicants pursues Low Income Housing Tax Credits (LIHTCs), either in the form of 9 percent or 4 percent LIHTCs. The Owner-applicant must submit evidence of tax credit application in order to receive an extension. If the project is selected and issued a Notification to Proceed and the Owner-applicant proposes to use 9 percent tax credits, the Owner-Applicant will have one opportunity to apply for the 9 percent tax credits in the next scheduled application round administered by the state or local issuing agency. If 9 percent tax credits cannot be secured during that first application cycle, the Notification to Proceed will be cancelled unless the Owner can demonstrate feasibility to meet Section 202 prepayment requirements without tax credits.

Stage 5: Prepayment Request and Approval

1. Submission of Prepayment request to Hub/PC within 60 days of receipt of the Notification to Proceed letter. The Owner-applicant will submit a Section 202 Direct Loan prepayment request to the Hub/PC. The Hub/PC will screen, review and process the application to ensure it meets the requirements of Housing Notice 12-08 and any subsequent guidance on Section 202 Direct Loan prepayments.⁸ The review will ensure compliance with all applicable statutes, regulations and policies. The review will include an environmental review by HUD Multifamily Development staff pursuant to the requirements at 24 CFR Part 50. Guidance for completion of this review may be found in Chapter 9 of the Multifamily Accelerated Processing (MAP) Guide. The review will include an assessment to verify the proposed repairs rise to the level of substantial rehabilitation and the proposed refinance will result in an increase in debt service, placing unassisted elderly residents at risk of increased rents and concomitantly displacement. If there is no anticipated increase in debt service, the project will not be eligible for SPRAC and the Notification to Proceed will be revoked. The Hub/PC Director will forward recommendations for Direct Loan prepayment approval to HUD Headquarters Office of Asset Management. Upon receipt of the Hub/PC recommendation, the Office of Asset Management will review the prepayment request and, within 30 days of the date of receipt of the Hub/PC recommendation, will make a determination of prepayment approval and notify the Hub/PC and the Owner-applicant.

⁸ Note: HUD intends to issue an update to Housing Notice 12-08 in the near future to clarify prepayment processing and requirements, including environmental review requirements.

2. Rent Comparability Study and Contract Request. ⁹ After receiving the Notification to Proceed letter, and while the prepayment application is completed, the Owner-applicant will be required to submit a copy of the Rent Comparability Study submitted with their Letter of Intent, that meets the requirements of the Section 8 Renewal Policy Guidebook. The Owner-applicant should also submit income verification information and a Contract Renewal Request Form (HUD Form 9264) ¹⁰ requesting a 20-year contract under Option 1: Mark up to Market. The Hub/PC will determine the rents for the project for the units occupied by income-eligible residents (those at or below 80 percent of AMI), and prepare the SPRAC for execution.

⁹ The SPRAC Notification to Proceed will provide the maximum number of units that may be assisted under the SPRAC. The lender should be advised of the possibility that the number of SPRAC-assisted units on the contract could decrease if residents are found to be over-income. The lender would rely on the RCS for “market” rents on which to underwrite the loan.

¹⁰ (http://portal.hud.gov/hudportal/documents/huddoc?id=DOC_14523.pdf)

Stage 6: Fund Reservation and Obligation

Upon approval of the prepayment request by HUD headquarters Office of Asset Management, HUD will issue an official fund reservation for the final SPRAC funding amount for that project. Once the fund reservation is complete, HUD will execute the SPRAC.

On the date of closing, the owner will execute the required Use Agreement and other loan documents as well as the SPRAC. Upon closing, HUD will obligate the SPRAC funds. Following the closing, the SPRAC will be administered under the rules and terms of the Section 8 Renewal Policy Guidebook by the PBCA and the HUD field office staff.

Environmental Impact

An Environmental Assessment (EA) and Finding of No Significant Impact (FONSI) with respect to the environment has been made for this Advance Notice in accordance with HUD regulations at 24 CFR part 50 that implement section 102(2)(C) of the National Environmental Policy Act of 1969 (42 U.S.C. 4332(2)(C)). The EA and FONSI is available for public inspection between 8 a.m. and 5 p.m. weekdays in the Regulations Division, Office of General Counsel, Department of Housing and Urban Development, 451 Seventh Street SW., Room 10276, Washington DC 20410-0500. Due to security measures at this HUD Headquarters Building, an advance appointment to review the EA and FONSI must be scheduled by calling the Regulations Division at 202-708-3055 (not a toll free number).

Dated: January 2, 2013.
Carol J. Galante,
Acting Assistant Secretary for Housing-Federal Housing Commissioner.

BILLING CODE 4210-67-P

BILLING CODE 4210-67-C

Attachment 1—Low Vacancy Areas
County FIPS code | County name | Vacancy Rate for Units Affordable to 80% of AMI: 2009 ACS 5 Year average (percent) | Vacancy Rate for Units Affordable to 80% of AMI: 2000 Census (percent)
01007 | Bibb County; Birmingham-Hoover, AL Metro Area; Alabama | 0.6 | 6.2
01063 | Greene County; Tuscaloosa, AL Metro Area; Alabama | 0.4 | 3.4
01065 | Hale County; Tuscaloosa, AL Metro Area; Alabama | 0.9 | 2.6
01085 | Lowndes County; Montgomery, AL Metro Area; Alabama | 3.9 | 6.6
01091 | Marengo County, Alabama | 3.3 | 7.1
01107 | Pickens County, Alabama | 5.7 | 5.9
01131 | Wilcox County, Alabama | 3.6 | 5.4
02020 | Anchorage Municipality; Anchorage, AK Metro Area; Alaska | 4.8 | 5.4
02050 | Bethel Census Area, Alaska | 2.6 | 6.8
02110 | Juneau City and Borough; Juneau, AK Micro Area; Alaska | 1.8 | 6.2
02188 | Northwest Arctic Borough, Alaska | 2.6 | 4.9
02195 | Petersburg Census Area, Alaska | 6.8 | N/A
02220 | Sitka City and Borough, Alaska | 1.3 | 5.1
02270 | Wade Hampton Census Area, Alaska | 1.0 | 5.0
04005 | Coconino County; Flagstaff, AZ Metro Area; Arizona | 6.8 | 7.2
05041 | Desha County, Arkansas | 6.2 | 7.1
05057 | Hempstead County; Hope, AR Micro Area; Arkansas | 3.2 | 5.4
05079 | Lincoln County; Pine Bluff, AR Metro Area; Arkansas | 6.8 | 7.1
05085 | Lonoke County; Little Rock-North Little Rock-Conway, AR Metro Area; Arkansas | 3.0 | 6.2
05099 | Nevada County; Hope, AR Micro Area; Arkansas | 2.4 | 4.7
06001 | Alameda County; San Francisco-Oakland-Fremont, CA Metro Area; California | 6.7 | 2.5
06007 | Butte County; Chico, CA Metro Area; California | 4.7 | 5.9
06009 | Calaveras County, California | 6.2 | 5.8
06011 | Colusa County, California | 2.8 | 2.9
06013 | Contra Costa County; San Francisco-Oakland-Fremont, CA Metro Area; California | 7.6 | 3.0
06019 | Fresno County; Fresno, CA Metro Area; California | 4.9 | 6.9
06023 | Humboldt County; Eureka-Arcata-Fortuna, CA Micro Area; California | 6.3 | 5.8
06025 | Imperial County; El Centro, CA Metro Area; California | 5.6 | 5.5
06027 | Inyo County; Bishop, CA Micro Area; California | 3.4 | 7.2
06031 | Kings County; Hanford-Corcoran, CA Metro Area; California | 3.7 | 6.7
06037 | Los Angeles County; Los Angeles-Long Beach-Santa Ana, CA Metro Area; California | 2.4 | 4.2
06039 | Madera County; Madera-Chowchilla, CA Metro Area; California | 3.8 | 6.2
06041 | Marin County; San Francisco-Oakland-Fremont, CA Metro Area; California | 2.6 | 1.8
06045 | Mendocino County; Ukiah, CA Micro Area; California | 5.0 | 3.5
06047 | Merced County; Merced, CA Metro Area; California | 6.3 | 4.7
06053 | Monterey County; Salinas, CA Metro Area; California | 5.7 | 2.4
06055 | Napa County; Napa, CA Metro Area; California | 5.1 | 2.0
06057 | Nevada County; Truckee-Grass Valley, CA Micro Area; California | 6.7 | 3.2
06059 | Orange County; Los Angeles-Long Beach-Santa Ana, CA Metro Area; California | 2.7 | 2.7
06061 | Placer County; Sacramento—Arden-Arcade—Roseville, CA Metro Area; California | 7.5 | 4.3
06067 | Sacramento County; Sacramento—Arden-Arcade—Roseville, CA Metro Area; California | 7.6 | 5.2
06069 | San Benito County; San Jose-Sunnyvale-Santa Clara, CA Metro Area; California | 3.4 | 2.6
06073 | San Diego County; San Diego-Carlsbad-San Marcos, CA Metro Area; California | 4.7 | 3.0
06075 | San Francisco County; San Francisco-Oakland-Fremont, CA Metro Area; California | 4.2 | 2.3
06077 | San Joaquin County; Stockton, CA Metro Area; California | 6.3 | 4.5
06079 | San Luis Obispo County; San Luis Obispo-Paso Robles, CA Metro Area; California | 3.4 | 3.0
06081 | San Mateo County; San Francisco-Oakland-Fremont, CA Metro Area; California | 4.0 | 1.6
06083 | Santa Barbara County; Santa Barbara-Santa Maria-Goleta, CA Metro Area; California | 3.7 | 2.8
06085 | Santa Clara County; San Jose-Sunnyvale-Santa Clara, CA Metro Area; California | 3.3 | 1.6
06087 | Santa Cruz County; Santa Cruz-Watsonville, CA Metro Area; California | 3.4 | 2.1
06089 | Shasta County; Redding, CA Metro Area; California | 6.5 | 7.0
06091 | Sierra County, California | 1.4 | 6.9
06095 | Solano County; Vallejo-Fairfield, CA Metro Area; California | 7.1 | 4.0
06097 | Sonoma County; Santa Rosa-Petaluma, CA Metro Area; California | 5.3 | 1.8
06099 | Stanislaus County; Modesto, CA Metro Area; California | 6.6 | 4.1
06101 | Sutter County; Yuba City, CA Metro Area; California | 7.1 | 5.5
06107 | Tulare County; Visalia-Porterville, CA Metro Area; California | 3.3 | 6.6
06109 | Tuolumne County; Phoenix Lake-Cedar Ridge, CA Micro Area; California | 5.5 | 6.9
06111 | Ventura County; Oxnard-Thousand Oaks-Ventura, CA Metro Area; California | 3.2 | 2.8
06113 | Yolo County; Sacramento—Arden-Arcade—Roseville, CA Metro Area; California | 3.9 | 3.1
08005 | Arapahoe County; Denver-Aurora-Broomfield, CO Metro Area; Colorado | 8.5 | 4.3
08013 | Boulder County; Boulder, CO Metro Area; Colorado | 4.8 | 3.6
08014 | Broomfield County; Denver-Aurora-Broomfield, CO Metro Area; Colorado | 6.5 | N/A
08021 | Conejos County, Colorado | 7.5 | 5.7
08045 | Garfield County, Colorado | 2.6 | 3.7
08059 | Jefferson County; Denver-Aurora-Broomfield, CO Metro Area; Colorado | 5.6 | 4.0
08069 | Larimer County; Fort Collins-Loveland, CO Metro Area; Colorado | 5.3 | 4.3
08071 | Las Animas County, Colorado | 8.3 | 5.7
08077 | Mesa County; Grand Junction, CO Metro Area; Colorado | 2.7 | 6.1
08079 | Mineral County, Colorado | N/A | 6.2
08087 | Morgan County; Fort Morgan, CO Micro Area; Colorado | 8.4 | 6.0
08097 | Pitkin County, Colorado | 4.7 | 6.2
09001 | Fairfield County; Bridgeport-Stamford-Norwalk, CT Metro Area; Connecticut | 7.5 | 4.4
09003 | Hartford County; Hartford-West Hartford-East Hartford, CT Metro Area; Connecticut | 7.5 | 6.6
09005 | Litchfield County; Torrington, CT Micro Area; Connecticut | 7.5 | 4.6
09007 | Middlesex County; Hartford-West Hartford-East Hartford, CT Metro Area; Connecticut | 5.9 | 5.0
09009 | New Haven County; New Haven-Milford, CT Metro Area; Connecticut | 7.3 | 6.7
09011 | New London County; Norwich-New London, CT Metro Area; Connecticut | 5.6 | 6.7
09013 | Tolland County; Hartford-West Hartford-East Hartford, CT Metro Area; Connecticut | 6.2 | 3.9
09015 | Windham County; Willimantic, CT Micro Area; Connecticut | 4.3 | 5.2
11001 | District of Columbia; Washington-Arlington-Alexandria, DC-VA-MD-WV Metro Area; District of Columbia | 5.8 | 6.6
12003 | Baker County; Jacksonville, FL Metro Area; Florida | 1.5 | 7.1
12086 | Miami-Dade County; Miami-Fort Lauderdale-Pompano Beach, FL Metro Area; Florida | 7.8 | 7.1
13007 | Baker County; Albany, GA Metro Area; Georgia | 7.2 | 1.1
13013 | Barrow County; Atlanta-Sandy Springs-Marietta, GA Metro Area; Georgia | 8.6 | 5.6
13035 | Butts County; Atlanta-Sandy Springs-Marietta, GA Metro Area; Georgia | 4.0 | 5.9
13043 | Candler County, Georgia | 2.6 | 6.2
13079 | Crawford County; Macon, GA Metro Area; Georgia | 7.0 | 6.6
13083 | Dade County; Chattanooga, TN-GA Metro Area; Georgia | 8.6 | 6.4
13085 | Dawson County; Atlanta-Sandy Springs-Marietta, GA Metro Area; Georgia | 3.5 | 3.6
13105 | Elbert County, Georgia | 7.5 | 7.1
13117 | Forsyth County; Atlanta-Sandy Springs-Marietta, GA Metro Area; Georgia | 6.5 | 4.5
13129 | Gordon County; Calhoun, GA Micro Area; Georgia | 8.4 | 6.4
13133 | Greene County, Georgia | 7.3 | 3.4
13139 | Hall County; Gainesville, GA Metro Area; Georgia | 7.3 | 5.9
13159 | Jasper County; Atlanta-Sandy Springs-Marietta, GA Metro Area; Georgia | 3.7 | 3.2
13171 | Lamar County; Atlanta-Sandy Springs-Marietta, GA Metro Area; Georgia | 4.6 | 6.9
13181 | Lincoln County, Georgia | 2.2 | 4.7
13197 | Marion County; Columbus, GA-AL Metro Area; Georgia | 8.3 | 3.7
13199 | Meriwether County; Atlanta-Sandy Springs-Marietta, GA Metro Area; Georgia | 4.9 | 6.2
13205 | Mitchell County, Georgia | 2.2 | 3.4
13211 | Morgan County, Georgia | 3.1 | 3.8
13217 | Newton County; Atlanta-Sandy Springs-Marietta, GA Metro Area; Georgia | 7.7 | 6.6
13231 | Pike County; Atlanta-Sandy Springs-Marietta, GA Metro Area; Georgia | 8.1 | 4.2
13237 | Putnam County, Georgia | 1.0 | 4.3
13249 | Schley County; Americus, GA Micro Area; Georgia | 3.2 | 6.4
13293 | Upson County; Thomaston, GA Micro Area; Georgia | 2.7 | 7.0
13297 | Walton County; Atlanta-Sandy Springs-Marietta, GA Metro Area; Georgia | 4.0 | 5.5
13301 | Warren County, Georgia | 1.2 | 4.7
13307 | Webster County, Georgia | N/A | N/A
15005 | Kalawao County, Hawaii | N/A | N/A
16001 | Ada County; Boise City-Nampa, ID Metro Area; Idaho | 6.6 | 5.6
16017 | Bonner County, Idaho | 5.0 | 7.0
16027 | Canyon County; Boise City-Nampa, ID Metro Area; Idaho | 7.8 | 7.1
16041 | Franklin County; Logan, UT-ID Metro Area; Idaho | 1.1 | 3.0
16045 | Gem County; Boise City-Nampa, ID Metro Area; Idaho | N/A | 6.1
16047 | Gooding County, Idaho | 4.7 | 4.0
16053 | Jerome County; Twin Falls, ID Micro Area; Idaho | 4.1 | 6.9
16057 | Latah County; Moscow, ID Micro Area; Idaho | 5.8 | 5.3
16065 | Madison County; Rexburg, ID Micro Area; Idaho | 3.0 | 6.3
16069 | Nez Perce County; Lewiston, ID-WA Metro Area; Idaho | 3.3 | 4.3
16071 | Oneida County, Idaho | 5.3 | 6.3
16077 | Power County; Pocatello, ID Metro Area; Idaho | 3.8 | 4.9
16087 | Washington County, Idaho | 3.8 | 6.4
17007 | Boone County; Rockford, IL Metro Area; Illinois | 6.8 | 6.5
17009 | Brown County, Illinois | 2.4 | 6.4
17013 | Calhoun County; St. Louis, MO-IL Metro Area; Illinois | 4.1 | 7.1
17019 | Champaign County; Champaign-Urbana, IL Metro Area; Illinois | 8.5 | 7.1
17027 | Clinton County; St. Louis, MO-IL Metro Area; Illinois | 3.5 | 4.4
17031 | Cook County; Chicago-Naperville-Joliet, IL-IN-WI Metro Area; Illinois | 8.0 | 6.1
17037 | DeKalb County; Chicago-Naperville-Joliet, IL-IN-WI Metro Area; Illinois | 4.5 | 3.8
17043 | DuPage County; Chicago-Naperville-Joliet, IL-IN-WI Metro Area; Illinois | 8.3 | 5.2
17053 | Ford County; Champaign-Urbana, IL Metro Area; Illinois | 2.5 | 5.0
17055 | Franklin County, Illinois | 6.8 | 6.7
17057 | Fulton County; Canton, IL Micro Area; Illinois | 5.2 | 4.4
17061 | Greene County, Illinois | 5.0 | 5.6
17071 | Henderson County; Burlington, IA-IL Micro Area; Illinois | 1.0 | 7.0
17073 | Henry County; Davenport-Moline-Rock Island, IA-IL Metro Area; Illinois | 8.0 | 5.5
17075 | Iroquois County, Illinois | 6.7 | 6.6
17083 | Jersey County; St. Louis, MO-IL Metro Area; Illinois | 4.8 | 5.2
17087 | Johnson County, Illinois | 1.3 | 3.4
17089 | Kane County; Chicago-Naperville-Joliet, IL-IN-WI Metro Area; Illinois | 7.2 | 5.1
17091 | Kankakee County; Kankakee-Bradley, IL Metro Area; Illinois | 7.2 | 6.4
17097 | Lake County; Chicago-Naperville-Joliet, IL-IN-WI Metro Area; Illinois | 8.2 | 5.5
17109 | McDonough County; Macomb, IL Micro Area; Illinois | 3.4 | 6.9
17111 | McHenry County; Chicago-Naperville-Joliet, IL-IN-WI Metro Area; Illinois | 7.1 | 4.0
17125 | Mason County, Illinois | 3.6 | 5.8
17131 | Mercer County; Davenport-Moline-Rock Island, IA-IL Metro Area; Illinois | 4.9 | 5.2
17139 | Moultrie County, Illinois | 8.0 | 5.2
17141 | Ogle County; Rochelle, IL Micro Area; Illinois | 5.8 | 6.0
17147 | Piatt County; Champaign-Urbana, IL Metro Area; Illinois | 5.7 | 4.8
17149 | Pike County, Illinois | 4.6 | 6.6
17153 | Pulaski County, Illinois | 5.2 | 6.6
17161 | Rock Island County; Davenport-Moline-Rock Island, IA-IL Metro Area; Illinois | 7.0 | 7.1
17169 | Schuyler County, Illinois | N/A | 6.3
17171 | Scott County; Jacksonville, IL Micro Area; Illinois | 4.1 | 6.8
17173 | Shelby County, Illinois | 3.9 | 6.7
17181 | Union County, Illinois | 1.8 | 4.4
17195 | Whiteside County; Sterling, IL Micro Area; Illinois | 3.6 | 7.0
17197 | Will County; Chicago-Naperville-Joliet, IL-IN-WI Metro Area; Illinois | 8.0 | 6.5
17203 | Woodford County; Peoria, IL Metro Area; Illinois | 4.4 | 6.7
18001 | Adams County; Decatur, IN Micro Area; Indiana | 8.0 | 6.2
18007 | Benton County; Lafayette, IN Metro Area; Indiana | 4.3 | 6.8
18015 | Carroll County; Lafayette, IN Metro Area; Indiana | 4.2 | 4.5
18029 | Dearborn County; Cincinnati-Middletown, OH-KY-IN Metro Area; Indiana | 8.6 | 7.0
18031 | Decatur County; Greensburg, IN Micro Area; Indiana | 1.7 | 6.4
18037 | Dubois County; Jasper, IN Micro Area; Indiana | 6.1 | 3.8
18073 | Jasper County; Chicago-Naperville-Joliet, IL-IN-WI Metro Area; Indiana | 5.1 | 5.2
18085 | Kosciusko County; Warsaw, IN Micro Area; Indiana | 3.0 | 6.4
18087 | LaGrange County, Indiana | 5.7 | 6.4
18089 | Lake County; Chicago-Naperville-Joliet, IL-IN-WI Metro Area; Indiana | 7.8 | 7.0
18105 | Monroe County; Bloomington, IN Metro Area; Indiana | 8.5 | 6.4
18111 | Newton County; Chicago-Naperville-Joliet, IL-IN-WI Metro Area; Indiana | 5.9 | 6.7
18119 | Owen County; Bloomington, IN Metro Area; Indiana | 4.6 | 5.5
18121 | Parke County, Indiana | 7.5 | 5.5
18127 | Porter County; Chicago-Naperville-Joliet, IL-IN-WI Metro Area; Indiana | 7.1 | 7.1
18137 | Ripley County, Indiana | 6.0 | 4.7
18149 | Starke County, Indiana | 3.9 | 4.5
18157 | Tippecanoe County; Lafayette, IN Metro Area; Indiana | 6.6 | 5.2
18159 | Tipton County; Kokomo, IN Metro Area; Indiana | 1.8 | 6.3
18161 | Union County, Indiana | 5.7 | 6.2
18165 | Vermillion County; Terre Haute, IN Metro Area; Indiana | 7.5 | 5.4
18171 | Warren County, Indiana | 6.4 | 5.8
18175 | Washington County; Louisville-Jefferson County, KY-IN Metro Area; Indiana | 6.3 | 6.5
18181 | White County, Indiana | 8.5 | 6.6
18183 | Whitley County; Fort Wayne, IN Metro Area; Indiana | 6.7 | 7.3
19003 | Adams County, Iowa | 4.5 | 6.9
19005 | Allamakee County, Iowa | 7.4 | 6.2
19009 | Audubon County, Iowa | 4.3 | 6.3
19011 | Benton County; Cedar Rapids, IA Metro Area; Iowa | 3.8 | 6.7
19013 | Black Hawk County; Waterloo-Cedar Falls, IA Metro Area; Iowa | 4.8 | 4.9
19015 | Boone County; Boone, IA Micro Area; Iowa | 2.9 | 7.2
19017 | Bremer County; Waterloo-Cedar Falls, IA Metro Area; Iowa | 3.0 | 5.4
19021 | Buena Vista County; Storm Lake, IA Micro Area; Iowa | 1.8 | 5.7
19023 | Butler County, Iowa | 2.5 | 4.7
19031 | Cedar County, Iowa | 0.9 | 5.3
19033 | Cerro Gordo County; Mason City, IA Micro Area; Iowa | 8.0 | 5.4
19037 | Chickasaw County, Iowa | 3.4 | 6.8
19041 | Clay County; Spencer, IA Micro Area; Iowa | 7.3 | 4.2
19049 | Dallas County; Des Moines-West Des Moines, IA Metro Area; Iowa | 4.5 | 6.3
19073 | Greene County, Iowa | 4.7 | 6.3
19075 | Grundy County; Waterloo-Cedar Falls, IA Metro Area; Iowa | 5.0 | 4.7
19079 | Hamilton County, Iowa | 6.4 | 5.0
19081 | Hancock County, Iowa | 5.3 | 5.6
19085 | Harrison County; Omaha-Council Bluffs, NE-IA Metro Area; Iowa | 5.5 | 7.0
19091 | Humboldt County, Iowa | 5.3 | 5.7
19097 | Jackson County, Iowa | 6.0 | 5.2
19103 | Johnson County; Iowa City, IA Metro Area; Iowa | 5.3 | 3.4
19105 | Jones County; Cedar Rapids, IA Metro Area; Iowa | 6.5 | 5.1
19113 | Linn County; Cedar Rapids, IA Metro Area; Iowa | 6.9 | 5.9
19121 | Madison County; Des Moines-West Des Moines, IA Metro Area; Iowa | 4.4 | 7.2
19131 | Mitchell County, Iowa | N/A | 6.9
19135 | Monroe County, Iowa | N/A | 6.8
19139 | Muscatine County; Muscatine, IA Micro Area; Iowa | 5.1 | 6.3
19153 | Polk County; Des Moines-West Des Moines, IA Metro Area; Iowa | 5.7 | 6.5
19159 | Ringgold County, Iowa | 1.0 | 5.3
19163 | Scott County; Davenport-Moline-Rock Island, IA-IL Metro Area; Iowa | 8.0 | 7.2
19169 | Story County; Ames, IA Metro Area; Iowa | 4.2 | 4.8
19177 | Van Buren County, Iowa | 7.0 | 5.9
19179 | Wapello County; Ottumwa, IA Micro Area; Iowa | 7.4 | 7.0
19181 | Warren County; Des Moines-West Des Moines, IA Metro Area; Iowa | 2.8 | 7.2
19185 | Wayne County, Iowa | 2.2 | 6.9
19187 | Webster County; Fort Dodge, IA Micro Area; Iowa | 4.6 | 7.3
19191 | Winneshiek County, Iowa | 7.0 | 5.9
19197 | Wright County, Iowa | 6.7 | 7.1
20017 | Chase County; Emporia, KS Micro Area; Kansas | N/A | 4.8
20023 | Cheyenne County, Kansas | 5.8 | 7.1
20045 | Douglas County; Lawrence, KS Metro Area; Kansas | 6.3 | 3.7
20049 | Elk County, Kansas | N/A | 7.3
20059 | Franklin County; Kansas City, MO-KS Metro Area; Kansas | 6.5 | 5.4
20073 | Greenwood County, Kansas | 3.7 | 6.2
20079 | Harvey County; Wichita, KS Metro Area; Kansas | 8.7 | 7.0
20087 | Jefferson County; Topeka, KS Metro Area; Kansas | 4.9 | 4.8
20091 | Johnson County; Kansas City, MO-KS Metro Area; Kansas | 7.6 | 7.2
20107 | Linn County; Kansas City, MO-KS Metro Area; Kansas | 4.7 | 6.2
20121 | Miami County; Kansas City, MO-KS Metro Area; Kansas | 2.9 | 5.9
20131 | Nemaha County, Kansas | 4.7 | 6.3
20133 | Neosho County, Kansas | 3.3 | 7.3
20161 | Riley County; Manhattan, KS Metro Area; Kansas | 4.3 | 3.7
20183 | Smith County, Kansas | 6.3 | 4.4
20199 | Wallace County, Kansas | 4.8 | 7.1
21017 | Bourbon County; Lexington-Fayette, KY Metro Area; Kentucky | 4.7 | 7.0
21023 | Bracken County; Cincinnati-Middletown, OH-KY-IN Metro Area; Kentucky | 6.1 | 3.5
21025 | Breathitt County, Kentucky | 2.4 | 7.0
21029 | Bullitt County; Louisville-Jefferson County, KY-IN Metro Area; Kentucky | 6.1 | 7.0
21031 | Butler County, Kentucky | 7.3 | 7.0
21045 | Casey County, Kentucky | 2.1 | 6.3
21051 | Clay County, Kentucky | 4.0 | 5.2
21069 | Fleming County, Kentucky | 4.5 | 6.9
21097 | Harrison County, Kentucky | 7.3 | 6.2
21101 | Henderson County; Evansville, IN-KY Metro Area; Kentucky | 6.7 | 6.4
21103 | Henry County; Louisville-Jefferson County, KY-IN Metro Area; Kentucky | 1.8 | 6.3
21105 | Hickman County, Kentucky | N/A | 4.5
21109 | Jackson County, Kentucky | 4.7 | 4.9
21113 | Jessamine County; Lexington-Fayette, KY Metro Area; Kentucky | 5.6 | 5.4
21129 | Lee County, Kentucky | 5.9 | 6.9
21153 | Magoffin County, Kentucky | 8.3 | 6.6
21185 | Oldham County; Louisville-Jefferson County, KY-IN Metro Area; Kentucky | 5.7 | 4.8
21189 | Owsley County, Kentucky | 1.1 | 6.4
21197 | Powell County, Kentucky | 3.1 | 7.2
21211 | Shelby County; Louisville-Jefferson County, KY-IN Metro Area; Kentucky | 7.1 | 5.0
21221 | Trigg County; Clarksville, TN-KY Metro Area; Kentucky | 7.6 | 4.6
21229 | Washington County, Kentucky | 6.3 | 1.9
21239 | Woodford County; Lexington-Fayette, KY Metro Area; Kentucky | 3.2 | 6.0
22007 | Assumption Parish; Pierre Part, LA Micro Area; Louisiana | 6.0 | 4.5
22009 | Avoyelles Parish, Louisiana | 6.1 | 4.9
22025 | Catahoula Parish, Louisiana | 2.9 | 6.2
22029 | Concordia Parish; Natchez, MS-LA Micro Area; Louisiana | 5.6 | 5.8
22037 | East Feliciana Parish; Baton Rouge, LA Metro Area; Louisiana | 1.2 | 6.9
22039 | Evangeline Parish, Louisiana | 8.5 | 6.4
22041 | Franklin Parish, Louisiana | 1.8 | 5.4
22045 | Iberia Parish; New Iberia, LA Micro Area; Louisiana | 4.0 | 5.9
22065 | Madison Parish; Tallulah, LA Micro Area; Louisiana | 3.7 | 5.7
22075 | Plaquemines Parish; New Orleans-Metairie-Kenner, LA Metro Area; Louisiana | 2.6 | 5.0
22081 | Red River Parish, Louisiana | 2.9 | 7.1
22083 | Richland Parish, Louisiana | 5.4 | 6.6
22087 | St. Bernard Parish; New Orleans-Metairie-Kenner, LA Metro Area; Louisiana | 4.4 | 6.0
22091 | St. Helena Parish; Baton Rouge, LA Metro Area; Louisiana | N/A | 4.6
22125 | West Feliciana Parish; Baton Rouge, LA Metro Area; Louisiana | 2.5 | 7.1
23005 | Cumberland County; Portland-South Portland-Biddeford, ME Metro Area; Maine | 5.7 | 3.7
23009 | Hancock County, Maine | 8.1 | 4.9
23013 | Knox County; Rockland, ME Micro Area; Maine | 7.3 | 5.1
23019 | Penobscot County; Bangor, ME Metro Area; Maine | 5.9 | 6.2
23023 | Sagadahoc County; Portland-South Portland-Biddeford, ME Metro Area; Maine | 7.5 | 6.2
24003 | Anne Arundel County; Baltimore-Towson, MD Metro Area; Maryland | 6.3 | 4.7
24005 | Baltimore County; Baltimore-Towson, MD Metro Area; Maryland | 6.2 | 6.0
24009 | Calvert County; Washington-Arlington-Alexandria, DC-VA-MD-WV Metro Area; Maryland | 3.9 | 7.2
24011 | Caroline County, Maryland | 4.5 | 7.1
24013 | Carroll County; Baltimore-Towson, MD Metro Area; Maryland | 6.0 | 4.9
24017 | Charles County; Washington-Arlington-Alexandria, DC-VA-MD-WV Metro Area; Maryland | 5.4 | 4.4
24019 | Dorchester County; Cambridge, MD Micro Area; Maryland | 4.7 | 7.1
24021 | Frederick County; Washington-Arlington-Alexandria, DC-VA-MD-WV Metro Area; Maryland | 5.5 | 4.8
24025 | Harford County; Baltimore-Towson, MD Metro Area; Maryland | 6.0 | 5.9
24031 | Montgomery County; Washington-Arlington-Alexandria, DC-VA-MD-WV Metro Area; Maryland | 5.3 | 3.1
24033 | Prince George's County; Washington-Arlington-Alexandria, DC-VA-MD-WV Metro Area; Maryland | 8.1 | 5.4
24035 | Queen Anne's County; Baltimore-Towson, MD Metro Area; Maryland | 4.9 | 5.2
24041 | Talbot County; Easton, MD Micro Area; Maryland | 3.1 | 5.9
24043 | Washington County; Hagerstown-Martinsburg, MD-WV Metro Area; Maryland | 7.4 | 5.7
24045 | Wicomico County; Salisbury, MD Metro Area; Maryland | 5.6 | 5.2
25001 | Barnstable County; Barnstable Town, MA Metro Area; Massachusetts | 6.5 | 5.8
25005 | Bristol County; Providence-New Bedford-Fall River, RI-MA Metro Area; Massachusetts | 5.1 | 5.6
25007 | Dukes County, Massachusetts | 6.6 | 4.3
25009 | Essex County; Boston-Cambridge-Quincy, MA-NH Metro Area; Massachusetts | 6.3 | 3.4
25011 | Franklin County; Springfield, MA Metro Area; Massachusetts | 2.3 | 2.9
25013 | Hampden County; Springfield, MA Metro Area; Massachusetts | 5.0 | 5.5
25015 | Hampshire County; Springfield, MA Metro Area; Massachusetts | 4.8 | 2.4
25017 | Middlesex County; Boston-Cambridge-Quincy, MA-NH Metro Area; Massachusetts | 5.8 | 2.4
25021 | Norfolk County; Boston-Cambridge-Quincy, MA-NH Metro Area; Massachusetts | 3.8 | 2.8
25023 | Plymouth County; Boston-Cambridge-Quincy, MA-NH Metro Area; Massachusetts | 4.4 | 3.4
25025 | Suffolk County; Boston-Cambridge-Quincy, MA-NH Metro Area; Massachusetts | 5.5 | 3.4
25027 | Worcester County; Worcester, MA Metro Area; Massachusetts | 7.8 | 4.5
26005 | Allegan County; Allegan, MI Micro Area; Michigan | 6.5 | 7.1
26007 | Alpena County; Alpena, MI Micro Area; Michigan | 6.8 | 5.5
26015 | Barry County; Grand Rapids-Wyoming, MI Metro Area; Michigan | 7.6 | 6.6
26027 | Cass County; South Bend-Mishawaka, IN-MI Metro Area; Michigan | 8.5 | 6.3
26029 | Charlevoix County, Michigan | 5.9 | 5.4
26031 | Cheboygan County, Michigan | 8.0 | 6.3
26045 | Eaton County; Lansing-East Lansing, MI Metro Area; Michigan | 8.0 | 5.2
26051 | Gladwin County, Michigan | 6.8 | 5.9
26055 | Grand Traverse County; Traverse City, MI Micro Area; Michigan | 8.3 | 5.0
26061 | Houghton County; Houghton, MI Micro Area; Michigan | 4.4 | 6.7
26063 | Huron County, Michigan | 8.2 | 6.7
26067 | Ionia County; Grand Rapids-Wyoming, MI Metro Area; Michigan | 6.3 | 6.5
26077 | Kalamazoo County; Kalamazoo-Portage, MI Metro Area; Michigan | 8.6 | 6.8
26081 | Kent County; Grand Rapids-Wyoming, MI Metro Area; Michigan | 7.8 | 6.2
26087 | Lapeer County; Detroit-Warren-Livonia, MI Metro Area; Michigan | 7.2 | 7.2
26091 | Lenawee County; Adrian, MI Micro Area; Michigan | 6.8 | 7.0
26099 | Macomb County; Detroit-Warren-Livonia, MI Metro Area; Michigan | 7.2 | 5.1
26111 | Midland County; Midland, MI Micro Area; Michigan | 6.0 | 6.7
26115 | Monroe County; Monroe, MI Metro Area; Michigan | 8.0 | 6.6
26119 | Montmorency County, Michigan | 4.2 | 5.0
26123 | Newaygo County; Grand Rapids-Wyoming, MI Metro Area; Michigan | 6.2 | 6.4
26129 | Ogemaw County, Michigan | 4.8 | 4.5
26145 | Saginaw County; Saginaw-Saginaw Township North, MI Metro Area; Michigan | 8.7 | 7.0
26165 | Wexford County; Cadillac, MI Micro Area; Michigan | 5.4 | 6.5
27003 | Anoka County; Minneapolis-St. Paul-Bloomington, MN-WI Metro Area; Minnesota | 7.6 | 2.1
27005 | Becker County, Minnesota | 1.7 | 5.7
27007 | Beltrami County; Bemidji, MN Micro Area; Minnesota | 6.2 | 4.0
27013 | Blue Earth County; Mankato-North Mankato, MN Metro Area; Minnesota | 5.6 | 3.4
27017 | Carlton County; Duluth, MN-WI Metro Area; Minnesota | 2.5 | 4.3
27019 | Carver County; Minneapolis-St. Paul-Bloomington, MN-WI Metro Area; Minnesota | 4.3 | 2.8
27021 | Cass County; Brainerd, MN Micro Area; Minnesota | 4.6 | 4.1
27025 | Chisago County; Minneapolis-St. Paul-Bloomington, MN-WI Metro Area; Minnesota | 5.3 | 2.2
27029 | Clearwater County, Minnesota | 5.5 | 5.3
27031 | Cook County, Minnesota | 4.9 | 6.3
27035 | Crow Wing County; Brainerd, MN Micro Area; Minnesota | 4.6 | 2.6
27037 | Dakota County; Minneapolis-St. Paul-Bloomington, MN-WI Metro Area; Minnesota | 8.2 | 2.5
27041 | Douglas County; Alexandria, MN Micro Area; Minnesota | 2.3 | 6.5
27049 | Goodhue County; Red Wing, MN Micro Area; Minnesota | 6.0 | 4.7
27053 | Hennepin County; Minneapolis-St. Paul-Bloomington, MN-WI Metro Area; Minnesota | 6.5 | 2.7
27059 | Isanti County; Minneapolis-St. Paul-Bloomington, MN-WI Metro Area; Minnesota | 8.7 | 6.0
27061 | Itasca County, Minnesota | 4.5 | 4.2
27065 | Kanabec County, Minnesota | 3.1 | 5.0
27087 | Mahnomen County, Minnesota | 5.9 | 6.8
27093 | Meeker County, Minnesota | 7.4 | 4.3
27095 | Mille Lacs County, Minnesota | 3.4 | 3.3
27097 | Morrison County, Minnesota | 3.0 | 4.0
27099 | Mower County; Austin, MN Micro Area; Minnesota | 5.1 | 6.2
27103 | Nicollet County; Mankato-North Mankato, MN Metro Area; Minnesota | 2.3 | 6.4
27105 | Nobles County; Worthington, MN Micro Area; Minnesota | 2.4 | 7.1
27111 | Otter Tail County; Fergus Falls, MN Micro Area; Minnesota | 6.1 | 6.0
27115 | Pine County, Minnesota | 3.9 | 4.2
27121 | Pope County, Minnesota | 4.2 | 4.0
27123 | Ramsey County; Minneapolis-St. Paul-Bloomington, MN-WI Metro Area; Minnesota | 6.6 | 2.6
27137 | St. Louis County; Duluth, MN-WI Metro Area; Minnesota | 5.2 | 6.1
27139 | Scott County; Minneapolis-St. Paul-Bloomington, MN-WI Metro Area; Minnesota | 6.7 | 4.7
27143 | Sibley County, Minnesota | 7.9 | 5.7
27145 | Stearns County; St. Cloud, MN Metro Area; Minnesota | 6.8 | 3.4
27149 | Stevens County, Minnesota | 7.2 | 6.8
27157 | Wabasha County; Rochester, MN Metro Area; Minnesota | 7.4 | 5.2
27159 | Wadena County, Minnesota | 7.0 | 6.4
27163 | Washington County; Minneapolis-St. Paul-Bloomington, MN-WI Metro Area; Minnesota | 6.7 | 5.0
27169 | Winona County; Winona, MN Micro Area; Minnesota | 4.8 | 5.1
27171 | Wright County; Minneapolis-St. Paul-Bloomington, MN-WI Metro Area; Minnesota | 3.9 | 2.5
28005 | Amite County; McComb, MS Micro Area; Mississippi | 4.7 | 4.0
28011 | Bolivar County; Cleveland, MS Micro Area; Mississippi | 6.2 | 6.5
28013 | Calhoun County, Mississippi | 2.7 | 6.5
28021 | Claiborne County, Mississippi | 8.7 | 7.1
28027 | Coahoma County; Clarksdale, MS Micro Area; Mississippi | 5.9 | 5.1
28051 | Holmes County, Mississippi | 2.6 | 4.7
28053 | Humphreys County, Mississippi | N/A | 3.5
28061 | Jasper County; Laurel, MS Micro Area; Mississippi | 3.2 | 4.5
28069 | Kemper County; Meridian, MS Micro Area; Mississippi | 1.2 | 2.4
28089 | Madison County; Jackson, MS Metro Area; Mississippi | 6.8 | 5.3
28093 | Marshall County; Memphis, TN-MS-AR Metro Area; Mississippi | 5.6 | 7.0
28103 | Noxubee County, Mississippi | 2.3 | 7.2
28119 | Quitman County, Mississippi | 8.2 | 3.7
28123 | Scott County, Mississippi | 6.8 | 7.0
28125 | Sharkey County, Mississippi | 6.5 | 6.7
28133 | Sunflower County; Indianola, MS Micro Area; Mississippi | 3.4 | 6.3
28135 | Tallahatchie County, Mississippi | 7.8 | 4.0
28137 | Tate County; Memphis, TN-MS-AR Metro Area; Mississippi | 7.1 | 4.6
28145 | Union County, Mississippi | 7.6 | 5.8
28147 | Walthall County, Mississippi | 3.5 | 4.9
28155 | Webster County, Mississippi | 2.3 | 4.4
28157 | Wilkinson County, Mississippi | 2.2 | 1.3
29003 | Andrew County; St. Joseph, MO-KS Metro Area; Missouri | N/A | 6.3
29013 | Bates County; Kansas City, MO-KS Metro Area; Missouri | 4.9 | 6.3
29017 | Bollinger County; Cape Girardeau-Jackson, MO-IL Metro Area; Missouri | 5.9 | 6.4
29019 | Boone County; Columbia, MO Metro Area; Missouri | 6.6 | 7.3
29037 | Cass County; Kansas City, MO-KS Metro Area; Missouri | 6.5 | 7.1
29045 | Clark County; Fort Madison-Keokuk, IA-MO Micro Area; Missouri | 6.3 | 7.2
29049 | Clinton County; Kansas City, MO-KS Metro Area; Missouri | 6.2 | 7.2
29051 | Cole County; Jefferson City, MO Metro Area; Missouri | 6.0 | 7.0
29093 | Iron County, Missouri | 3.9 | 7.1
29183 | St. Charles County; St. Louis, MO-IL Metro Area; Missouri | 6.8 | 5.8
29186 | Ste. Genevieve County, Missouri | 6.6 | 5.8
29189 | St. Louis County; St. Louis, MO-IL Metro Area; Missouri | 6.7 | 7.0
29219 | Warren County; St. Louis, MO-IL Metro Area; Missouri | 1.9 | 6.7
29227 | Worth County, Missouri | 8.6 | 6.1
30005 | Blaine County, Montana | 5.5 | 7.0
30013 | Cascade County; Great Falls, MT Metro Area; Montana | 5.3 | 6.5
30029 | Flathead County; Kalispell, MT Micro Area; Montana | 7.0 | 6.3
30031 | Gallatin County; Bozeman, MT Micro Area; Montana | 4.5 | 6.0
30049 | Lewis and Clark County; Helena, MT Micro Area; Montana | 5.3 | 5.6
30063 | Missoula County; Missoula, MT Metro Area; Montana | 6.0 | 4.6
30081 | Ravalli County, Montana | 8.1 | 6.2
30095 | Stillwater County, Montana | 3.4 | 5.6
30099 | Teton County, Montana | 1.5 | 6.1
30103 | Treasure County, Montana | 3.8 | 6.9
30105 | Valley County, Montana | 7.8 | 7.3
30111 | Yellowstone County; Billings, MT Metro Area; Montana | 4.0 | 5.4
31005 | Arthur County, Nebraska | N/A | 5.3
31007 | Banner County; Scottsbluff, NE Micro Area; Nebraska | 2.7 | N/A
31019 | Buffalo County; Kearney, NE Micro Area; Nebraska | 7.2 | 5.9
31021 | Burt County, Nebraska | 5.0 | 6.3
31039 | Cuming County, Nebraska | 0.8 | 5.3
31051 | Dixon County; Sioux City, IA-NE-SD Metro Area; Nebraska | 5.6 | 6.4
31059 | Fillmore County, Nebraska | 1.4 | 7.2
31061 | Franklin County, Nebraska | 8.2 | 5.6
31109 | Lancaster County; Lincoln, NE Metro Area; Nebraska | 7.5 | 6.6
31117 | McPherson County; North Platte, NE Micro Area; Nebraska | 4.5 | 6.2
31121 | Merrick County; Grand Island, NE Micro Area; Nebraska | 4.6 | 6.1
31149 | Rock County, Nebraska | 6.7 | 6.9
31153 | Sarpy County; Omaha-Council Bluffs, NE-IA Metro Area; Nebraska | 6.9 | 5.1
31159 | Seward County; Lincoln, NE Metro Area; Nebraska | 5.3 | 6.9
31165 | Sioux County, Nebraska | 6.9 | 5.7
31167 | Stanton County; Norfolk, NE Micro Area; Nebraska | N/A | 6.1
31173 | Thurston County, Nebraska | 7.0 | 4.1
31177 | Washington County; Omaha-Council Bluffs, NE-IA Metro Area; Nebraska | 5.8 | 6.9
31179 | Wayne County, Nebraska | 7.1 | 6.0
33001 | Belknap County; Laconia, NH Micro Area; New Hampshire | 4.7 | 6.3
33005 | Cheshire County; Keene, NH Micro Area; New Hampshire | 4.9 | 3.4
33009 | Grafton County; Lebanon, NH-VT Micro Area; New Hampshire | 7.6 | 3.8
33011 | Hillsborough County; Manchester-Nashua, NH Metro Area; New Hampshire | 6.9 | 2.5
33013 | Merrimack County; Concord, NH Micro Area; New Hampshire | 4.5 | 3.1
33015 | Rockingham County; Boston-Cambridge-Quincy, MA-NH Metro Area; New Hampshire | 7.4 | 3.0
33017 | Strafford County; Boston-Cambridge-Quincy, MA-NH Metro Area; New Hampshire | 4.7 | 2.6
33019 | Sullivan County; Claremont, NH Micro Area; New Hampshire | 3.9 | 6.5
34003 | Bergen County; New York-Northern New Jersey-Long Island, NY-NJ-PA Metro Area; New Jersey | 3.8 | 2.8
34005 | Burlington County; Philadelphia-Camden-Wilmington, PA-NJ-DE-MD Metro Area; New Jersey | 6.1 | 5.9
34007 | Camden County; Philadelphia-Camden-Wilmington, PA-NJ-DE-MD Metro Area; New Jersey | 5.5 | 7.2
34011 | Cumberland County; Vineland-Millville-Bridgeton, NJ Metro Area; New Jersey | 8.1 | 6.1
34013 | Essex County; New York-Northern New Jersey-Long Island, NY-NJ-PA Metro Area; New Jersey | 7.1 | 5.8
34015 | Gloucester County; Philadelphia-Camden-Wilmington, PA-NJ-DE-MD Metro Area; New Jersey | 7.7 | 6.7
34017 | Hudson County; New York-Northern New Jersey-Long Island, NY-NJ-PA Metro Area; New Jersey | 6.2 | 3.5
34019 | Hunterdon County; New York-Northern New Jersey-Long Island, NY-NJ-PA Metro Area; New Jersey | 2.2 | 4.4
34021 | Mercer County; Trenton-Ewing, NJ Metro Area; New Jersey | 7.7 | 6.0
34023 | Middlesex County; New York-Northern New Jersey-Long Island, NY-NJ-PA Metro Area; New Jersey | 5.3 | 3.0
34025 | Monmouth County; New York-Northern New Jersey-Long Island, NY-NJ-PA Metro Area; New Jersey | 5.6 | 4.5
34027 | Morris County; New York-Northern New Jersey-Long Island, NY-NJ-PA Metro Area; New Jersey | 6.0 | 2.8
34031 | Passaic County; New York-Northern New Jersey-Long Island, NY-NJ-PA Metro Area; New Jersey | 6.5 | 3.1
34037 | Sussex County; New York-Northern New Jersey-Long Island, NY-NJ-PA Metro Area; New Jersey | 3.5 | 4.8
34039 | Union County; New York-Northern New Jersey-Long Island, NY-NJ-PA Metro Area; New Jersey | 6.5 | 3.9
34041 | Warren County; Allentown-Bethlehem-Easton, PA-NJ Metro Area; New Jersey | 7.0 | 6.5
35033 | Mora County, New Mexico | 7.1 | 5.6
36001 | Albany County; Albany-Schenectady-Troy, NY Metro Area; New York | 4.8 | 6.7
36005 | Bronx County; New York-Northern New Jersey-Long Island, NY-NJ-PA Metro Area; New York | 3.7 | 4.6
36019 | Clinton County; Plattsburgh, NY Micro Area; New York | 5.3 | 7.0
36021 | Columbia County; Hudson, NY Micro Area; New York | 5.9 | 5.6
36027 | Dutchess County; Poughkeepsie-Newburgh-Middletown, NY Metro Area; New York | 6.0 | 4.8
36047 | Kings County; New York-Northern New Jersey-Long Island, NY-NJ-PA Metro Area; New York | 3.7 | 3.8
36059 | Nassau County; New York-Northern New Jersey-Long Island, NY-NJ-PA Metro Area; New York | 6.3 | 2.2
36061 | New York County; New York-Northern New Jersey-Long Island, NY-NJ-PA Metro Area; New York | 2.5 | 3.9
36071 | Orange County; Poughkeepsie-Newburgh-Middletown, NY Metro Area; New York | 4.2 | 4.7
36079 | Putnam County; New York-Northern New Jersey-Long Island, NY-NJ-PA Metro Area; New York | 5.0 | 2.7
36081 | Queens County; New York-Northern New Jersey-Long Island, NY-NJ-PA Metro Area; New York | 3.3 | 2.8
36085 | Richmond County; New York-Northern New Jersey-Long Island, NY-NJ-PA Metro Area; New York | 8.2 | 4.8
36087 | Rockland County; New York-Northern New Jersey-Long Island, NY-NJ-PA Metro Area; New York | 4.2 | 3.1
36091 | Saratoga County; Albany-Schenectady-Troy, NY Metro Area; New York | 6.0 | 5.8
36103 | Suffolk County; New York-Northern New Jersey-Long Island, NY-NJ-PA Metro Area; New York | 6.5 | 3.7
36109 | Tompkins County; Ithaca, NY Metro Area; New York | 3.3 | 4.1
36111 | Ulster County; Kingston, NY Metro Area; New York | 4.2 | 5.6
36119 | Westchester County; New York-Northern New Jersey-Long Island, NY-NJ-PA Metro Area; New York | 5.2 | 3.5
36121 | Wyoming County, New York | 5.2 | 7.0
37005 | Alleghany County, North Carolina | 2.1 | 5.7
37015 | Bertie County, North Carolina | 4.4 | 6.9
37023 | Burke County; Hickory-Lenoir-Morganton, NC Metro Area; North Carolina | 8.5 | 7.1
37029 | Camden County; Elizabeth City, NC Micro Area; North Carolina | N/A | 3.0
37041 | Chowan County, North Carolina | 1.6 | 6.8
37043 | Clay County, North Carolina | 7.6 | 5.1
37057 | Davidson County; Thomasville-Lexington, NC Micro Area; North Carolina | 6.1 | 6.0
37073 | Gates County, North Carolina | 2.0 | 3.7
37077 | Granville County, North Carolina | 3.6 | 6.7
37079 | Greene County; Greenville, NC Metro Area; North Carolina | 4.5 | 6.7
37083 | Halifax County; Roanoke Rapids, NC Micro Area; North Carolina | 6.0 | 7.0
37091 | Hertford County, North Carolina | 7.2 | 5.6
37109 | Lincoln County; Lincolnton, NC Micro Area; North Carolina | 4.5 | 5.6
37111 | McDowell County, North Carolina | 7.5 | 5.8
37117 | Martin County, North Carolina | 5.6 | 5.7
37121 | Mitchell County, North Carolina | 1.2 | 6.6
37123 | Montgomery County, North Carolina | 5.9 | 5.3
37131 | Northampton County; Roanoke Rapids, NC Micro Area; North Carolina | 1.7 | 4.9
37143 | Perquimans County; Elizabeth City, NC Micro Area; North Carolina | 2.6 | 5.3
37145 | Person County; Durham-Chapel Hill, NC Metro Area; North Carolina | 5.5 | 5.8
37169 | Stokes County; Winston-Salem, NC Metro Area; North Carolina | 7.0 | 7.1
37175 | Transylvania County; Brevard, NC Micro Area; North Carolina | 4.6 | 5.6
37177 | Tyrrell County, North Carolina | 3.7 | 5.0
37179 | Union County; Charlotte-Gastonia-Concord, NC-SC Metro Area; North Carolina | 5.5 | 3.6
37181 | Vance County; Henderson, NC Micro Area; North Carolina | 6.4 | 5.7
37187 | Washington County, North Carolina | 4.4 | 6.1
37189 | Watauga County; Boone, NC Micro Area; North Carolina | 6.6 | 7.0
37195 | Wilson County; Wilson, NC Micro Area; North Carolina | 6.5 | 5.2
38015 | Burleigh County; Bismarck, ND Metro Area; North Dakota | 5.5 | 5.3
38017 | Cass County; Fargo, ND-MN Metro Area; North Dakota | 4.5 | 5.0
38035 | Grand Forks County; Grand Forks, ND-MN Metro Area; North Dakota | 6.9 | 6.2
38079 | Rolette County, North Dakota | 7.8 | 7.3
38085 | Sioux County, North Dakota | 3.5 | 3.3
38091 | Steele County, North Dakota | 5.0 | 5.2
38101 | Ward County; Minot, ND Micro Area; North Dakota | 3.7 | 5.3
39001 | Adams County, Ohio | 8.6 | 7.0
39005 | Ashland County; Ashland, OH Micro Area; Ohio | 5.1 | 6.5
39015 | Brown County; Cincinnati-Middletown, OH-KY-IN Metro Area; Ohio | 6.3 | 7.1
39019 | Carroll County; Canton-Massillon, OH Metro Area; Ohio | 2.9 | 5.9
39029 | Columbiana County; East Liverpool-Salem, OH Micro Area; Ohio | 6.2 | 6.1
39037 | Darke County; Greenville, OH Micro Area; Ohio | 3.9 | 5.7
39045 | Fairfield County; Columbus, OH Metro Area; Ohio | 5.8 | 6.3
39055 | Geauga County; Cleveland-Elyria-Mentor, OH Metro Area; Ohio | 7.3 | 5.9
39057 | Greene County; Dayton, OH Metro Area; Ohio | 6.1 | 7.2
39067 | Harrison County, Ohio | 2.0 | 7.2
39069 | Henry County, Ohio | 5.9 | 6.6
39071 | Highland County, Ohio | 5.0 | 7.1
39073 | Hocking County, Ohio | 6.1 | 4.3
39075 | Holmes County, Ohio | 5.0 | 5.7
39077 | Huron County; Norwalk, OH Micro Area; Ohio | 7.9 | 5.8
39083 | Knox County; Mount Vernon, OH Micro Area; Ohio | 5.5 | 6.4
39085 | Lake County; Cleveland-Elyria-Mentor, OH Metro Area; Ohio | 7.4 | 6.3
39089 | Licking County; Columbus, OH Metro Area; Ohio | 5.3 | 6.5
39091 | Logan County; Bellefontaine, OH Micro Area; Ohio | 2.5 | 7.3
39097 | Madison County; Columbus, OH Metro Area; Ohio | 4.3 | 7.0
39107 | Mercer County; Celina, OH Micro Area; Ohio | 5.4 | 6.4
39109 | Miami County; Dayton, OH Metro Area; Ohio | 8.1 | 7.1
39117 | Morrow County; Columbus, OH Metro Area; Ohio | 1.0 | 4.6
39121 | Noble County, Ohio | 5.5 | 3.9
39125 | Paulding County, Ohio | 8.6 | 6.5
39129 | Pickaway County; Columbus, OH Metro Area; Ohio | 6.9 | 5.9
39135 | Preble County; Dayton, OH Metro Area; Ohio | 1.7 | 6.0
39137 | Putnam County, Ohio | 8.1 | 5.7
39163 | Vinton County, Ohio | 4.8 | 3.7
39169 | Wayne County; Wooster, OH Micro Area; Ohio | 6.3 | 7.0
39171 | Williams County, Ohio | 6.5 | 5.5
39173 | Wood County; Toledo, OH Metro Area; Ohio | 7.5 | 5.4
41027 | Hood River County; Hood River, OR Micro Area; Oregon | 7.4 | 2.1
41029 | Jackson County; Medford, OR Metro Area; Oregon | 3.8 | 5.7
41033 | Josephine County; Grants Pass, OR Micro Area; Oregon | 4.0 | 6.7
41039 | Lane County; Eugene-Springfield, OR Metro Area; Oregon | 4.4 | 6.4
41051 | Multnomah County; Portland-Vancouver-Beaverton, OR-WA Metro Area; Oregon | 5.1 | 6.8
41053 | Polk County; Salem, OR Metro Area; Oregon | 7.6 | 7.1
41067 | Washington County; Portland-Vancouver-Beaverton, OR-WA Metro Area; Oregon | 5.7 | 7.1
41071 | Yamhill County; Portland-Vancouver-Beaverton, OR-WA Metro Area; Oregon | 5.0 | 5.5
42001 | Adams County; Gettysburg, PA Micro Area; Pennsylvania | 1.7 | 3.9
42005 | Armstrong County; Pittsburgh, PA Metro Area; Pennsylvania | 4.0 | 6.5
42009 | Bedford County, Pennsylvania | 3.8 | 6.7
42011 | Berks County; Reading, PA Metro Area; Pennsylvania | 6.1 | 6.7
42013 | Blair County; Altoona, PA Metro Area; Pennsylvania | 5.8 | 7.2
42017 | Bucks County; Philadelphia-Camden-Wilmington, PA-NJ-DE-MD Metro Area; Pennsylvania | 8.2 | 4.4
42019 | Butler County; Pittsburgh, PA Metro Area; Pennsylvania | 5.6 | 6.0
42027 | Centre County; State College, PA Metro Area; Pennsylvania | 2.4 | 3.4
42029 | Chester County; Philadelphia-Camden-Wilmington, PA-NJ-DE-MD Metro Area; Pennsylvania | 5.4 | 5.0
42031 | Clarion County, Pennsylvania | 8.2 | 6.6
42033 | Clearfield County; DuBois, PA Micro Area; Pennsylvania | 5.5 | 6.0
42035 | Clinton County; Lock Haven, PA Micro Area; Pennsylvania | 2.4 | 5.2
42037 | Columbia County; Bloomsburg-Berwick, PA Micro Area; Pennsylvania | 5.5 | 7.1
42041 | Cumberland County; Harrisburg-Carlisle, PA Metro Area; Pennsylvania | 3.0 | 6.7
42045 | Delaware County; Philadelphia-Camden-Wilmington, PA-NJ-DE-MD Metro Area; Pennsylvania | 7.3 | 6.3
42053 | Forest County, Pennsylvania | 3.3 | 7.0
42055 | Franklin County; Chambersburg, PA Micro Area; Pennsylvania | 4.5 | 7.1
42057 | Fulton County, Pennsylvania | 2.0 | 6.9
42061 | Huntingdon County; Huntingdon, PA Micro Area; Pennsylvania | 8.1 | 6.9
42065 | Jefferson County, Pennsylvania | 4.2 | 6.3
42067 | Juniata County, Pennsylvania | 2.4 | 5.4
42071 | Lancaster County; Lancaster, PA Metro Area; Pennsylvania | 4.2 | 5.1
42075 | Lebanon County; Lebanon, PA Metro Area; Pennsylvania | 3.6 | 6.9
42077 | Lehigh County; Allentown-Bethlehem-Easton, PA-NJ Metro Area; Pennsylvania | 4.9 | 7.1
42085 | Mercer County; Youngstown-Warren-Boardman, OH-PA Metro Area; Pennsylvania | 7.9 | 6.8
42089 | Monroe County; East Stroudsburg, PA Micro Area; Pennsylvania | 4.9 | 5.8
42091 | Montgomery County; Philadelphia-Camden-Wilmington, PA-NJ-DE-MD Metro Area; Pennsylvania | 6.4 | 5.9
42095 | Northampton County; Allentown-Bethlehem-Easton, PA-NJ Metro Area; Pennsylvania | 5.2 | 6.2
42103 | Pike County; New York-Northern New Jersey-Long Island, NY-NJ-PA Metro Area; Pennsylvania | 5.8 | 5.0
42105 | Potter County, Pennsylvania | 5.7 | 6.8
42109 | Snyder County; Selinsgrove, PA Micro Area; Pennsylvania | 2.0 | 5.1
42111 | Somerset County; Somerset, PA Micro Area; Pennsylvania | 5.7 | 7.1
42115 | Susquehanna County, Pennsylvania | 2.7 | 7.0
42117 | Tioga County, Pennsylvania | 3.6 | 6.2
42119 | Union County; Lewisburg, PA Micro Area; Pennsylvania | 3.6 | 6.4
42121 | Venango County; Oil City, PA Micro Area; Pennsylvania | 3.7 | 6.4
42127 | Wayne County, Pennsylvania | 3.7 | 7.1
42131 | Wyoming County; Scranton-Wilkes-Barre, PA Metro Area; Pennsylvania | 1.0 | 5.2
44001 | Bristol County; Providence-New Bedford-Fall River, RI-MA Metro Area; Rhode Island | 2.8 | 4.3
44003 | Kent County; Providence-New Bedford-Fall River, RI-MA Metro Area; Rhode Island | 5.1 | 4.8
44005 | Newport County; Providence-New Bedford-Fall River, RI-MA Metro Area; Rhode Island | 6.4 | 5.5
44007 | Providence County; Providence-New Bedford-Fall River, RI-MA Metro Area; Rhode Island | 7.7 | 5.1
45005 | Allendale County, South Carolina | 7.4 | 4.6
45017 | Calhoun County; Columbia, SC Metro Area; South Carolina | 1.8 | 4.8
45039 | Fairfield County; Columbia, SC Metro Area; South Carolina | 7.5 | 6.5
45065 | McCormick County, South Carolina | 6.5 | 7.0
45081 | Saluda County; Columbia, SC Metro Area; South Carolina | 6.8 | 5.5
45089 | Williamsburg County, South Carolina | 2.9 | 6.6
46011 | Brookings County; Brookings, SD Micro Area; South Dakota | 4.8 | 7.0
46015 | Brule County, South Dakota | 2.7 | 6.7
46017 | Buffalo County, South Dakota | N/A | 4.9
46031 | Corson County, South Dakota | 3.5 | 4.1
46033 | Custer County, South Dakota | 8.2 | 5.1
46049 | Faulk County, South Dakota | 4.1 | 5.7
46059 | Hand County, South Dakota | 3.7 | 5.1
46067 | Hutchinson County, South Dakota | 6.0 | 5.9
46079 | Lake County, South Dakota | 5.8 | 3.0
46099 | Minnehaha County; Sioux Falls, SD Metro Area; South Dakota | 7.7 | 5.0
46103 | Pennington County; Rapid City, SD Metro Area; South Dakota | 6.7 | 5.8
46109 | Roberts County, South Dakota | 5.2 | 5.7
46111 | Sanborn County, South Dakota | 3.2 | 6.3
46113 | Shannon County, South Dakota | 1.1 | 0.6
46121 | Todd County, South Dakota | 8.1 | 4.8
47003 | Bedford County; Shelbyville, TN Micro Area; Tennessee | 4.7 | 6.1
47021 | Cheatham County; Nashville-Davidson—Murfreesboro—Franklin, TN Metro Area; Tennessee | 3.9 | 6.6
47047 | Fayette County; Memphis, TN-MS-AR Metro Area; Tennessee | 6.4 | 6.7
47127 | Moore County; Tullahoma, TN Micro Area; Tennessee | 4.4 | 3.5
47147 | Robertson County; Nashville-Davidson—Murfreesboro—Franklin, TN Metro Area; Tennessee | 7.4 | 5.2
47171 | Unicoi County; Johnson City, TN Metro Area; Tennessee | 8.1 | 6.4
47175 | Van Buren County, Tennessee | 5.9 | 6.4
48013 | Atascosa County; San Antonio, TX Metro Area; Texas | 5.7 | 5.7
48015 | Austin County; Houston-Sugar Land-Baytown, TX Metro Area; Texas | 8.5 | 3.6
48033 | Borden County, Texas | N/A | N/A
48035 | Bosque County, Texas | 7.0 | 6.5
48041 | Brazos County; College Station-Bryan, TX Metro Area; Texas | 7.7 | 6.6
48053 | Burnet County, Texas | 4.9 | 6.9
48055 | Caldwell County; Austin-Round Rock, TX Metro Area; Texas | 3.8 | 4.6
48095 | Concho County, Texas | 1.7 | 5.6
48097 | Cooke County; Gainesville, TX Micro Area; Texas | 5.8 | 6.0
48119 | Delta County; Dallas-Fort Worth-Arlington, TX Metro Area; Texas | 1.0 | 6.1
48123 | DeWitt County, Texas | 7.1 | 7.1
48137 | Edwards County, Texas | 2.7 | 4.3
48139 | Ellis County; Dallas-Fort Worth-Arlington, TX Metro Area; Texas | 6.9 | 6.8
48157 | Fort Bend County; Houston-Sugar Land-Baytown, TX Metro Area; Texas | 7.3 | 6.4
48171 | Gillespie County; Fredericksburg, TX Micro Area; Texas | 1.5 | 3.6
48173 | Glasscock County, Texas | N/A | 7.0
48205 | Hartley County, Texas | 1.1 | 6.8
48209 | Hays County; Austin-Round Rock, TX Metro Area; Texas | 6.1 | 4.6
48225 | Houston County, Texas | 7.3 | 7.1
48247 | Jim Hogg County, Texas | 5.9 | 4.8
48251 | Johnson County; Dallas-Fort Worth-Arlington, TX Metro Area; Texas | 5.8 | 6.8
48257 | Kaufman County; Dallas-Fort Worth-Arlington, TX Metro Area; Texas | 6.7 | 7.2
48261 | Kenedy County; Kingsville, TX Micro Area; Texas | N/A | N/A
48267 | Kimble County, Texas | 5.1 | 5.9
48269 | King County, Texas | N/A | N/A
48293 | Limestone County, Texas | 6.0 | 6.1
48301 | Loving County, Texas | N/A | N/A
48305 | Lynn County, Texas | N/A | 7.3
48307 | McCulloch County, Texas | 0.5 | 5.8
48327 | Menard County, Texas | 3.7 | 6.5
48397 | Rockwall County; Dallas-Fort Worth-Arlington, TX Metro Area; Texas | 3.0 | 6.1
48421 | Sherman County, Texas | 5.5 | 6.5
48425 | Somervell County; Granbury, TX Micro Area; Texas | N/A | 6.6
48453 | Travis County; Austin-Round Rock, TX Metro Area; Texas | 8.1 | 3.2
48467 | Van Zandt County, Texas | 4.2 | 5.6
48477 | Washington County; Brenham, TX Micro Area; Texas | 4.0 | 6.6
48479 | Webb County; Laredo, TX Metro Area; Texas | 6.4 | 6.6
48491 | Williamson County; Austin-Round Rock, TX Metro Area; Texas | 6.3 | 3.8
48495 | Winkler County, Texas | 0.8 | 5.2
49005 | Cache County; Logan, UT-ID Metro Area; Utah | 4.8 | 4.7
49009 | Daggett County, Utah | 3.7 | 3.3
49011 | Davis County; Ogden-Clearfield, UT Metro Area; Utah | 6.5 | 6.2
49021 | Iron County; Cedar City, UT Micro Area; Utah | 6.8 | 7.0
49023 | Juab County; Provo-Orem, UT Metro Area; Utah | 3.4 | 2.3
49027 | Millard County, Utah | 4.3 | 6.9
49031 | Piute County, Utah | N/A | 4.3
49035 | Salt Lake County; Salt Lake City, UT Metro Area; Utah | 5.9 | 6.9
49047 | Uintah County; Vernal, UT Micro Area; Utah | 5.3 | 6.7
49049 | Utah County; Provo-Orem, UT Metro Area; Utah | 5.3 | 3.4
50001 | Addison County, Vermont | 8.1 | 3.4
50003 | Bennington County; Bennington, VT Micro Area; Vermont | 2.2 | 4.8
50005 | Caledonia County, Vermont | 6.9 | 6.3
50007 | Chittenden County; Burlington-South Burlington, VT Metro Area; Vermont | 3.8 | 1.8
50011 | Franklin County; Burlington-South Burlington, VT Metro Area; Vermont | 5.4 | 2.7
50013 | Grand Isle County; Burlington-South Burlington, VT Metro Area; Vermont | 4.6 | 5.6
50015 | Lamoille County, Vermont | 4.5 | 2.9
50021 | Rutland County; Rutland, VT Micro Area; Vermont | 7.2 | 4.7
50023 | Washington County; Barre, VT Micro Area; Vermont | 6.1 | 3.5
50025 | Windham County, Vermont | 8.2 | 5.1
50027 | Windsor County; Lebanon, NH-VT Micro Area; Vermont | 6.7 | 5.0
51003 | Albemarle County; Charlottesville, VA Metro Area; Virginia | 5.5 | 3.9
51005 | Alleghany County, Virginia | 3.1 | 5.3
51007 | Amelia County; Richmond, VA Metro Area; Virginia | N/A | 4.9
51009 | Amherst County; Lynchburg, VA Metro Area; Virginia | 2.3 | 5.0
51013 | Arlington County; Washington-Arlington-Alexandria, DC-VA-MD-WV Metro Area; Virginia | 6.6 | 2.3
51015 | Augusta County; Staunton-Waynesboro, VA Micro Area; Virginia | 6.0 | 5.4
51017 | Bath County, Virginia | 5.6 | 2.9
51019 | Bedford County; Lynchburg, VA Metro Area; Virginia | 6.9 | 6.3
51021 | Bland County, Virginia | 3.8 | 6.7
51025 | Brunswick County, Virginia | 1.7 | 1.8
51029 | Buckingham County, Virginia | 3.5 | 3.5
51031 | Campbell County; Lynchburg, VA Metro Area; Virginia | 4.6 | 6.9
51033 | Caroline County; Richmond, VA Metro Area; Virginia | 8.1 | 3.9
51043 | Clarke County; Washington-Arlington-Alexandria, DC-VA-MD-WV Metro Area; Virginia | 7.1 | 3.1
51045 | Craig County; Roanoke, VA Metro Area; Virginia | 1.1 | 3.9
51047 | Culpeper County; Culpeper, VA Micro Area; Virginia | 7.4 | 2.5
51049 | Cumberland County; Richmond, VA Metro Area; Virginia | N/A | 3.3
51057 | Essex County, Virginia | 2.7 | 3.0
51059 | Fairfax County; Washington-Arlington-Alexandria, DC-VA-MD-WV Metro Area; Virginia | 5.0 | 2.3
51063 | Floyd County, Virginia | 7.8 | 6.4
51065 | Fluvanna County; Charlottesville, VA Metro Area; Virginia | 3.8 | 4.0
51067 | Franklin County; Roanoke, VA Metro Area; Virginia | 6.4 | 5.8
51069 | Frederick County; Winchester, VA-WV Metro Area; Virginia | 6.6 | 5.5
51073 | Gloucester County; Virginia Beach-Norfolk-Newport News, VA-NC Metro Area; Virginia | 2.5 | 4.9
51075 | Goochland County; Richmond, VA Metro Area; Virginia | 6.0 | 6.9
51079 | Greene County; Charlottesville, VA Metro Area; Virginia | 1.4 | 3.0
51081 | Greensville County, Virginia | 5.7 | 3.1
51083 | Halifax County, Virginia | 8.4 | 7.1
51085 | Hanover County; Richmond, VA Metro Area; Virginia | 5.2 | 5.7
51087 | Henrico County; Richmond, VA Metro Area; Virginia | 6.8 | 5.2
51093 | Isle of Wight County; Virginia Beach-Norfolk-Newport News, VA-NC Metro Area; Virginia | 3.0 | 5.1
51097 | King and Queen County; Richmond, VA Metro Area; Virginia | 2.7 | 2.6
51101 | King William County; Richmond, VA Metro Area; Virginia | 3.2 | 5.0
51103 | Lancaster County, Virginia | 1.8 | 7.0
51109 | Louisa County; Richmond, VA Metro Area; Virginia | 3.9 | 3.5
51111 | Lunenburg County, Virginia | 7.4 | 4.6
51113 | Madison County, Virginia | 4.7 | 3.4
51115 | Mathews County; Virginia Beach-Norfolk-Newport News, VA-NC Metro Area; Virginia | N/A | 4.0
51119 | Middlesex County, Virginia | 7.8 | 4.9
51121 | Montgomery County; Blacksburg-Christiansburg-Radford, VA Metro Area; Virginia | 4.9 | 3.5
51125 | Nelson County; Charlottesville, VA Metro Area; Virginia | 7.6 | 3.2
51127 | New Kent County; Richmond, VA Metro Area; Virginia | N/A | 2.1
51131 | Northampton County, Virginia | 3.8 | 4.6
51133 | Northumberland County, Virginia | N/A | 3.0
51135 | Nottoway County, Virginia | 3.0 | 4.8
51139 | Page County, Virginia | 3.6 | 4.2
51149 | Prince George County; Richmond, VA Metro Area; Virginia | 4.8 | 4.6
51153 | Prince William County; Washington-Arlington-Alexandria, DC-VA-MD-WV Metro Area; Virginia | 8.3 | 3.6
51155 | Pulaski County; Blacksburg-Christiansburg-Radford, VA Metro Area; Virginia | 6.3 | 6.6
51157 | Rappahannock County, Virginia | N/A | 3.3
51159 | Richmond County, Virginia | 2.1 | 3.6
51161 | Roanoke County; Roanoke, VA Metro Area; Virginia | 6.4 | 5.6
51165 | Rockingham County; Harrisonburg, VA Metro Area; Virginia | 2.3 | 4.2
51171 | Shenandoah County, Virginia | 6.3 | 4.1
51183 | Sussex County; Richmond, VA Metro Area; Virginia | 1.5 | 4.4
51187 | Warren County; Washington-Arlington-Alexandria, DC-VA-MD-WV Metro Area; Virginia | 7.9 | 3.7
51191 | Washington County; Kingsport-Bristol-Bristol, TN-VA Metro Area; Virginia | 6.1 | 6.9
51193 | Westmoreland County, Virginia | 1.2 | 4.2
51199 | York County; Virginia Beach-Norfolk-Newport News, VA-NC Metro Area; Virginia | 4.8 | 3.7
51510 | Alexandria city; Washington-Arlington-Alexandria, DC-VA-MD-WV Metro Area; Virginia | 5.6 | 2.3
51515 | Bedford city; Lynchburg, VA Metro Area; Virginia | N/A | 6.2
51530 | Buena Vista city, Virginia | 2.1 | 3.6
51540 | Charlottesville city; Charlottesville, VA Metro Area; Virginia | 6.1 | 2.9
51550 | Chesapeake city; Virginia Beach-Norfolk-Newport News, VA-NC Metro Area; Virginia | 1.6 | 4.9
51595 | Emporia city, Virginia | 5.4 | 6.4
51600 | Fairfax city; Washington-Arlington-Alexandria, DC-VA-MD-WV Metro Area; Virginia | N/A | 1.6
51610 | Falls Church city; Washington-Arlington-Alexandria, DC-VA-MD-WV Metro Area; Virginia | 4.6 | 3.6
51650 | Hampton city; Virginia Beach-Norfolk-Newport News, VA-NC Metro Area; Virginia | 7.7 | 6.7
51660 | Harrisonburg city; Harrisonburg, VA Metro Area; Virginia | 4.0 | 3.6
51678 | Lexington city, Virginia | N/A | 3.3
51700 | Newport News city; Virginia Beach-Norfolk-Newport News, VA-NC Metro Area; Virginia | 6.6 | 6.6
51735 | Poquoson city; Virginia Beach-Norfolk-Newport News, VA-NC Metro Area; Virginia | 5.2 | 0.8
51740 | Portsmouth city; Virginia Beach-Norfolk-Newport News, VA-NC Metro Area; Virginia | 4.6 | 7.0
51750 | Radford city; Blacksburg-Christiansburg-Radford, VA Metro Area; Virginia | 2.5 | 6.1
51760 | Richmond city; Richmond, VA Metro Area; Virginia | 7.2 | 6.4
51770 | Roanoke city; Roanoke, VA Metro Area; Virginia | 5.4 | 6.4
51800 | Suffolk city; Virginia Beach-Norfolk-Newport News, VA-NC Metro Area; Virginia | 5.0 | 6.9
51810 | Virginia Beach city; Virginia Beach-Norfolk-Newport News, VA-NC Metro Area; Virginia | 5.2 | 4.6
51820 | Waynesboro city; Staunton-Waynesboro, VA Micro Area; Virginia | 6.5 | 5.8
51830 | Williamsburg city; Virginia Beach-Norfolk-Newport News, VA-NC Metro Area; Virginia | 8.6 | 2.8
53007 | Chelan County; Wenatchee-East Wenatchee, WA Metro Area; Washington | 7.3 | 7.1
53011 | Clark County; Portland-Vancouver-Beaverton, OR-WA Metro Area; Washington | 5.3 | 7.0
53029 | Island County; Oak Harbor, WA Micro Area; Washington | 6.1 | 4.4
53031 | Jefferson County, Washington | 3.0 | 5.3
53033 | King County; Seattle-Tacoma-Bellevue, WA Metro Area; Washington | 4.8 | 4.2
53035 | Kitsap County; Bremerton-Silverdale, WA Metro Area; Washington | 6.2 | 6.9
53037 | Kittitas County; Ellensburg, WA Micro Area; Washington | 3.7 | 6.6
53043 | Lincoln County, Washington | 1.5 | 6.0
53045 | Mason County; Shelton, WA Micro Area; Washington | 5.0 | 6.5
53053 | Pierce County; Seattle-Tacoma-Bellevue, WA Metro Area; Washington | 6.4 | 6.8
53055 | San Juan County, Washington | 5.8 | 6.9
53057 | Skagit County; Mount Vernon-Anacortes, WA Metro Area; Washington | 4.2 | 4.9
53059 | Skamania County; Portland-Vancouver-Beaverton, OR-WA Metro Area; Washington | 0.4 | 7.1
53061 | Snohomish County; Seattle-Tacoma-Bellevue, WA Metro Area; Washington | 4.7 | 5.8
53065 | Stevens County, Washington | 6.9 | 6.4
53067 | Thurston County; Olympia, WA Metro Area; Washington | 4.1 | 6.3
53069 | Wahkiakum County, Washington | N/A | 5.1
53073 | Whatcom County; Bellingham, WA Metro Area; Washington | 2.7 | 6.0
54001 | Barbour County, West Virginia | 5.1 | 4.8
54003 | Berkeley County; Hagerstown-Martinsburg, MD-WV Metro Area; West Virginia | 5.8 | 7.0
54013 | Calhoun County, West Virginia | 6.5 | 6.9
54017 | Doddridge County; Clarksburg, WV Micro Area; West Virginia | 0.9 | 5.6
54027 | Hampshire County; Winchester, VA-WV Metro Area; West Virginia | 3.9 | 6.7
54037 | Jefferson County; Washington-Arlington-Alexandria, DC-VA-MD-WV Metro Area; West Virginia | 7.1 | 4.1
54041 | Lewis County, West Virginia | 3.1 | 7.2
54043 | Lincoln County; Charleston, WV Metro Area; West Virginia | 1.9 | 5.6
54051 | Marshall County; Wheeling, WV-OH Metro Area; West Virginia | 3.2 | 5.1
54071 | Pendleton County, West Virginia | 2.7 | 5.9
54083 | Randolph County, West Virginia | 6.4 | 6.8
54085 | Ritchie County, West Virginia | 6.0 | 5.9
54087 | Roane County, West Virginia | 2.1 | 6.7
54095 | Tyler County, West Virginia | 3.9 | 7.2
54101 | Webster County, West Virginia | 8.3 | 6.9
54109 | Wyoming County, West Virginia | 1.1 | 6.3
55001 | Adams County, Wisconsin | 5.7 | 6.9
55003 | Ashland County, Wisconsin | 8.0 | 7.0
55005 | Barron County, Wisconsin | 4.5 | 4.6
55007 | Bayfield County, Wisconsin | 5.0 | 6.7
55009 | Brown County; Green Bay, WI Metro Area; Wisconsin | 6.5 | 4.1
55013 | Burnett County, Wisconsin | 4.5 | 5.2
55017 | Chippewa County; Eau Claire, WI Metro Area; Wisconsin | 4.5 | 5.2
55019 | Clark County, Wisconsin | 7.1 | 6.3
55021 | Columbia County; Madison, WI Metro Area; Wisconsin | 8.2 | 6.9
55025 | Dane County; Madison, WI Metro Area; Wisconsin | 7.0 | 4.3
55031 | Douglas County; Duluth, MN-WI Metro Area; Wisconsin | 7.5 | 6.6
55035 | Eau Claire County; Eau Claire, WI Metro Area; Wisconsin | 4.0 | 3.6
55037 | Florence County; Iron Mountain, MI-WI Micro Area; Wisconsin | 7.7 | 5.3
55055 | Jefferson County; Watertown-Fort Atkinson, WI Micro Area; Wisconsin | 6.6 | 6.0
55061 | Kewaunee County; Green Bay, WI Metro Area; Wisconsin | 2.6 | 6.2
55063 | La Crosse County; La Crosse, WI-MN Metro Area; Wisconsin | 3.1 | 4.8
55077 | Marquette County, Wisconsin | 3.1 | 6.8
55079 | Milwaukee County; Milwaukee-Waukesha-West Allis, WI Metro Area; Wisconsin | 4.8 | 5.8
55081 | Monroe County, Wisconsin | 5.2 | 6.7
55083 | Oconto County; Green Bay, WI Metro Area; Wisconsin | 4.9 | 5.8
55087 | Outagamie County; Appleton, WI Metro Area; Wisconsin | 5.1 | 5.0
55089 | Ozaukee County; Milwaukee-Waukesha-West Allis, WI Metro Area; Wisconsin | 8.3 | 5.0
55093 | Pierce County; Minneapolis-St. Paul-Bloomington, MN-WI Metro Area; Wisconsin | 3.5 | 3.0
55097 | Portage County; Stevens Point, WI Micro Area; Wisconsin | 4.3 | 4.1
55101 | Racine County; Racine, WI Metro Area; Wisconsin | 6.0 | 7.1
55107 | Rusk County, Wisconsin | 3.3 | 6.0
55109 | St. Croix County; Minneapolis-St. Paul-Bloomington, MN-WI Metro Area; Wisconsin | 4.2 | 3.3
55113 | Sawyer County, Wisconsin | 1.6 | 6.5
55115 | Shawano County, Wisconsin | 5.9 | 6.4
55117 | Sheboygan County; Sheboygan, WI Metro Area; Wisconsin | 6.8 | 5.6
55119 | Taylor County, Wisconsin | 6.7 | 4.9
55123 | Vernon County, Wisconsin | 6.8 | 6.8
55127 | Walworth County; Whitewater, WI Micro Area; Wisconsin | 7.9 | 4.9
55131 | Washington County; Milwaukee-Waukesha-West Allis, WI Metro Area; Wisconsin | 3.8 | 5.0
55133 | Waukesha County; Milwaukee-Waukesha-West Allis, WI Metro Area; Wisconsin | 4.6 | 5.4
55137 | Waushara County, Wisconsin | 3.3 | 6.3
55139 | Winnebago County; Oshkosh-Neenah, WI Metro Area; Wisconsin | 7.5 | 6.0
55141 | Wood County; Marshfield-Wisconsin Rapids, WI Micro Area; Wisconsin | 6.6 | 6.0
56001 | Albany County; Laramie, WY Micro Area; Wyoming | 7.4 | 5.7
56005 | Campbell County; Gillette, WY Micro Area; Wyoming | 5.3 | 6.5
56019 | Johnson County, Wyoming | 1.4 | 5.0
56033 | Sheridan County; Sheridan, WY Micro Area; Wyoming | 3.6 | 5.2
72003 | Aguada Municipio; Aguadilla-Isabela-San Sebastián, PR Metro Area; Puerto Rico | N/A | 6.7
72005 | Aguadilla Municipio; Aguadilla-Isabela-San Sebastián, PR Metro Area; Puerto Rico | 4.3 | 6.5
72007 | Aguas Buenas Municipio; San Juan-Caguas-Guaynabo, PR Metro Area; Puerto Rico | 2.2 | 6.5
72015 | Arroyo Municipio; Guayama, PR Metro Area; Puerto Rico | 2.5 | 3.7
72017 | Barceloneta Municipio; San Juan-Caguas-Guaynabo, PR Metro Area; Puerto Rico | 4.7 | 5.0
72019 | Barranquitas Municipio; San Juan-Caguas-Guaynabo, PR Metro Area; Puerto Rico | 1.0 | 6.9
72025 | Caguas Municipio; San Juan-Caguas-Guaynabo, PR Metro Area; Puerto Rico | 2.5 | 5.2
72029 | Canovanas Municipio; San Juan-Caguas-Guaynabo, PR Metro Area; Puerto Rico | 2.1 | 6.4
72031 | Carolina Municipio; San Juan-Caguas-Guaynabo, PR Metro Area; Puerto Rico | 4.4 | 7.2
72033 | Cataño Municipio; San Juan-Caguas-Guaynabo, PR Metro Area; Puerto Rico | 3.6 | 5.2
72035 | Cayey Municipio; San Juan-Caguas-Guaynabo, PR Metro Area; Puerto Rico | 4.1 | 6.3
72037 | Ceiba Municipio; Fajardo, PR Metro Area; Puerto Rico | 1.6 | 6.9
72039 | Ciales Municipio; San Juan-Caguas-Guaynabo, PR Metro Area; Puerto Rico | N/A | 6.2
72041 | Cidra Municipio; San Juan-Caguas-Guaynabo, PR Metro Area; Puerto Rico | N/A | 5.6
72043 | Coamo Municipio; Coamo, PR Micro Area; Puerto Rico | N/A | 5.7
72047 | Corozal Municipio; San Juan-Caguas-Guaynabo, PR Metro Area; Puerto Rico | 1.2 | 4.8
72057 | Guayama Municipio; Guayama, PR Metro Area; Puerto Rico | 3.9 | 5.3
72059 | Guayanilla Municipio; Yauco, PR Metro Area; Puerto Rico | 2.2 | 5.4
72061 | Guaynabo Municipio; San Juan-Caguas-Guaynabo, PR Metro Area; Puerto Rico | 2.0 | 6.6
72063 | Gurabo Municipio; San Juan-Caguas-Guaynabo, PR Metro Area; Puerto Rico | 6.7 | 3.9
72065 | Hatillo Municipio; San Juan-Caguas-Guaynabo, PR Metro Area; Puerto Rico | 6.0 | 4.8
72071 | Isabela Municipio; Aguadilla-Isabela-San Sebastián, PR Metro Area; Puerto Rico | 2.2 | 6.8
72073 | Jayuya Municipio; Jayuya, PR Micro Area; Puerto Rico | N/A | 2.6
72075 | Juana Díaz Municipio; Ponce, PR Metro Area; Puerto Rico | 1.9 | 5.1
72077 | Juncos Municipio; San Juan-Caguas-Guaynabo, PR Metro Area; Puerto Rico | 4.6 | 4.9
72087 | Lofza Municipio; San Juan-Caguas-Guaynabo, PR Metro Area; Puerto Rico | 1.3 | 4.4
72093 | Maricao Municipio, Puerto Rico | N/A | 4.5
72095 | Maunabo Municipio; San Juan-Caguas-Guaynabo, PR Metro Area; Puerto Rico | N/A | 1.7
72101 | Morovis Municipio; San Juan-Caguas-Guaynabo, PR Metro Area; Puerto Rico | 2.3 | 4.7
72103 | Naguabo Municipio; San Juan-Caguas-Guaynabo, PR Metro Area; Puerto Rico | 6.4 | 6.3
72107 | Orocovis Municipio; San Juan-Caguas-Guaynabo, PR Metro Area; Puerto Rico | 0.6 | 5.1
72111 | Peñuelas Municipio; Yauco, PR Metro Area; Puerto Rico | 1.9 | 5.0
72113 | Ponce Municipio; Ponce, PR Metro Area; Puerto Rico | 2.6 | 4.7
72115 | Quebradillas Municipio; San Juan-Caguas-Guaynabo, PR Metro Area; Puerto Rico | 2.4 | 4.7
72119 | Río Grande Municipio; San Juan-Caguas-Guaynabo, PR Metro Area; Puerto Rico | 4.0 | 6.5
72121 | Sabana Grande Municipio; San Germán-Cabo Rojo, PR Metro Area; Puerto Rico | 1.0 | 5.1
72123 | Salinas Municipio; Coamo, PR Micro Area; Puerto Rico | 1.8 | 2.8
72125 | San Germán Municipio; San Germán-Cabo Rojo, PR Metro Area; Puerto Rico | 1.9 | 6.0
72127 | San Juan Municipio; San Juan-Caguas-Guaynabo, PR Metro Area; Puerto Rico | 4.5 | 6.2
72133 | Santa Isabel Municipio; Santa Isabel, PR Micro Area; Puerto Rico | N/A | 1.6
72143 | Vega Alta Municipio; San Juan-Caguas-Guaynabo, PR Metro Area; Puerto Rico | 5.0 | 4.8
72147 | Vieques Municipio, Puerto Rico | 8.4 | 7.0
72149 | Villalba Municipio; Ponce, PR Metro Area; Puerto Rico | 1.8 | 4.4
72151 | Yabucoa Municipio; San Juan-Caguas-Guaynabo, PR Metro Area; Puerto Rico | 3.8 | 4.8
72153 | Yauco Municipio; Yauco, PR Metro Area; Puerto Rico | 2.0 | 6.1

Note: A property meets the low-vacancy threshold if it is located in a county that was below the national rental vacancy rate for units affordable to low-income households in 2000 (7.3 percent) and was within the 80th percentile of low-income rental vacancy rates (8.7 percent) as measured by the 2009 5 year ACS (meaning that 80 percent of counties had a vacancy rate below 8.7 percent in the 2009 5 year ACS).

[FR Doc. 2013-00072 Filed 1-7-13; 8:45 am]

BILLING CODE 4210-67-P